DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2016. For purposes of this listing, long-term residents, as defined in section 877(e)(2), are treated as if they were citizens of the United States who lost citizenship.

Last name | First name | Middle name/initials
A L BULOOSHI | EATHAR | TALIB
ABBIS | JONATHAN | DAVID
ABER | JAY | ROBERT
ABOU-ROKBA | ABRAR | EIHAB
ABOU-ROKBAH | EIHAB | HASSAN
ABRAMOWITZ | PAUL | NEIL
ABRAMS | RACHEL | JEANINE
ABU KHADRA | RABAH | YUSEF
ABURDENE | OLGA | BASSAM
ACKERT | HEATHER | LOUISE
ACREMANN | YVONNE | RENEE
ACTON | SUSAN | LORRIE
ADAM | ROBERT | SAUL
ADAMA | MARIEKE | MARGRET
ADAMKOWSKI | GARY | RAYMOND
ADAMS | BRIGITTE | VALENTINE
ADAMS | ISABELLE |
ADELSON | MITCHELL | JAY
ADLER | BRIAG |
ADOREMOS | MADELAINE |
ADVANI | RAJESH | GUL
AGUIRRE | JAVIER |
AHLI | KHALID | AHMED
AHN | HOWARD |
AHSANI | MELORIE |
AIDOSARY | YASIR | IBRAHIM
AL KHABORI | YASSER | SALEEM JAWAD
AL ZAMIL | HANOOF | AHMED
ALAMASI | MARYAM | ADNAN
AL-ANSARI | HEND | AHMES
AL-ANSARI | SARA | AHMES
ALASIR | MERVAT | AWNI ZAKI
ALBACHTEN | MARY | LOUISE
ALDERSON | EVAN | WROE
ALEXANDER | CATHERINE | MOFFAT
ALEXANDRE | CHANTAL | MARIE
AL-FAISAL | BANDAR | KHALID
ALFRED | BRAXTON | MARCELLUS
AL-GHANNAM | BADER | ABDULAZIZ
ALHADEFF | SUSAN | ALICE
AL-HAMDAN | MOJAHED | KHALID
AL-HELAL | MARYAM | HAMAD HUSSAIN AHMED
AL-JUWAYER | AYMAN | IBRAHIM
ALKAABI | DOAA | SAIF
ALKAZEMI | ALI | F.
AL-KHABORI | MOHAMMED | SALEEM
AL-KUBAISY | DONNA | ABDULLA
ALLEN-VANDAMME | AURELIA | LUCIE
ALLIN | RHONA | JANETTE
ALMA | PRESTON | CHARLES
AL-MAHDI | MOHAMMED | ALI
AL-MEHSEN | SAHR | FAHAD
ALMOALLIM | LOUJAINE |
AL-MUTAIRI | NAWAF | SWEILEM
ALNASSER | TARIQ | SAAD A
AL-NOWAISER | MESHAL | MOHAMMED
ALPERT | KAREN |
AL-QUBAISI | ABDULLA | MOHAMED H.M.
AL-RAJHI | MOHAMMAD | ABDULRAHMAN
AL-RASHID | LAYLA | ABDULAZIZ
AL-SAHHAF | KIM | ELIZABETH
AL-SAHHAF | SUMMER | MAJDI
AL-SAHHAF | TALA | MAJDI
ALSALEH | NADA | KAMEL
ALSAUD | GHALIA | TURKY
ALSHALAWI | ABDULLAH | EID
ALSHEHRI | FERAS | A.
AL-SURF | FARRIS | SAIED
ALSUWAIDI | MOHAMMED |
ALSUWAIDI | SARAH | SALEM
ALTENBACH | VERONIKA | PATRICIA
ALTUN | ALP |
AL-TURKI | BADR | KHALID
ALVES | DIOGO | GARCIA ALMEIDA
ALWAZZAN | ISA | ALI
ALYAHYA | NUREEYA | OTHMAN
ALYAHYA | NUREEYA | OTHMAN
AL-YAHYA | AMAR | OTHMAN KHALID
AL-YAHYA | HAYA | OTHMAN
AL-YAHYA | HAYA | OTHMAN
ALZAMIL | MONIRA | AHMES
AL-ZAMIL | DONNA | AHMES
AL-ZAMIL | HAIFA | HAMED
AMMEN | MARK | EDWARDS
AMY | BERNARD | PAUL
ANDERSON | MELANIE | CATHERINE SAINTHILL
ANDERSON | NEIL | JAMES
ANDERSSON-RUSCH | CLARA | LETICIA
ANDREWS | JOHN | ROBERT
ANGELOTTI | IVANO | GUGLIELMO
ANSERMET | MARIE-MADELIENE | REGINA
ANTONOV | YAKOV | IGOREVICH
AQUILINA | ALESSANDRO |
ARCE | OLIVER | ARAO
ARDAVANIS | ANNE-LISE | MOBERG
ARENDA | KAJ | ANDREW
ARMADA | PEDRO | JOSE
ARMSTRONG | IAN | CHRISTIAN
ARONSON | BENJAMIN | PAUL
ARPAGAUS | ROLF | OLIVER
ARROWOOD | MARGARET | ANN
ARTUNKAL | ALI | RIZA
ASCH | CATHERINE | MADELEINE
ASCHER-DAVIS | JEANIE |
ASH-NODA | MIYUKI |
ASHTON | CYNTHIA | MARIE
ASSEILY | WILLIAM | JOSEPH
ASSIM-KOWANETZ | LYNDA | MARIE
ATKINS | PHILIP | GEORGE
AUBRY | MELANIE | LAURENCE
AUDETTE | RICHARD |
AUSTIN | JAMES | ALBY ANDRE
AUTIN | ANDREAS | ALBERT
AUTIN | GREGORY |
AVAKIAN | TALINE |
AVRAMIDES | ALMA |
AVRAMIDES | NICOLE |
BACHER | LINDA | KERSTIN
BACHINGER | MARCUS | OLIVER
BADERTSCHER | ANDREA | ARNI
BADGLEY | PETER | FRANCIS
BAGGETT | JONAS |
BAILEY | BRIAN | ALEXANDRE
BAILEY | WILLIAM | CHARLES
BALLY | EVELYN | YVON
BALMER | MONIQUE | HELENE
BANCKE | SHANNON | LEE
BANCROFT CARTER | LESLIE | ANNE
BANCROFT-HYLTON | ANNE |
BARAK | GAL |
BARAK | RUTH |
BARBER-SKIDMORE | SANDRA | JOAN
BARELA, JR | ROY | HENRY
BARGANIER | BRAUN | MITCHELL
BARGETZI | MICHAEL | PHILIP
BARGEZI | DANIELA | MARTHA
BARIMAN | JELENA | MARINKOVIC
BARKER | FREDERICK | GEORGE LINDSEY
BARNES (NEE EVANS) | JOSEPHINE | MARGARET
BARNETT | KAREN | ANN
BARONIT | MARIAN | YVONNE
BARRETT | ALEXANDER | P.T.
BARRETT | DAVID | ANTHONY
BARRETT | MARIE | GILBERTE
BARTA | JAN | KAREL
BARTON | ELIZABETH | ANNE
BARTON | LEE | ELLEN
BARUTI | ARMANDA |
BASKWILL | AMANDA | JANE
BASTER | JENNIFER |
BASTKE-JENSEN | REBEKKA | RUTH
BATEMAN | HEATHER | RUTH
BATEMAN | JULIA | ELIZABETH
BATESON | GREGORY | EARL
BATTIG | SANDRE-ALINE | MARIE THERESE
BAU,ANN | FELIX |
BAUBERGER-LERNER | AMANDA | BETH
BAUDAIS | TRACY | SUE
BAUDER | RALPH | UWE
BAUER | RICHARDA | HEDWIG
BAZILAI | AVI |
BEAUDRY | PAUL |
BEAUGRAND | CHRISTOPHER | WILLIAM
BEAUJEU | DIANE | DE QUIQUERAN
BEAULIEU | JUSTIN | GAETAN
BEAVERS | EDWARD | GERALD
BECK | EUGENE | CORNELIUS
BECKER | BYRON | WEBER
BECKERS | STEVEN | ERIC
BECKETT | ELIZABETH | ANN
BECTON-ZAMIL | ANNE | MARIE
BEDARD | ALICE | MARIE
BEDUIN | EVERT | SCHELTEMA
BEGLINGEG- ERDIN | SABINE | BARBARA
BEHLER | SELINA | ALISON
BEINGESSNER | SANDRA | MARIE
BELAND | MICHAEL | PATRICK
BELBIN | MICHAEL | DONALD
BELCK | SIGRID | TAMARA
BELIEN | CAROLYN | CARINE PETER
BELL | KRISTIAN | HAMES
BELL | STEFANIE |
BELLAMKONDA | RAMESH |
BELLINGER | JAMES | HENRY
BELLINGER | SAMUEL | JOHN
BELTINGER | DOROTHEA | EUGENIE
BENEDEK-RHODES | BARBARA | SUSAN
BEN-ISRAEL | OREN | MENAHEM
BENNET | DONALD | MICHAEL
BENNETT | AMANDA |
BENNETT | OLIVIA | CATHERINE MARY
BENOMAR | OMAR |
BENSCHOP | MICHELLE | CATHARINA
BENSON-CONDER | GABERIEL |
BENVILLE-BOAST | ROBIN |
BERGMANS | PHILIPPE | LAURENT
BERGSSTROM-EADEN | JANICE | LYNN
BERMAN | ALEXANDER | PAUL
BERTSCHINGER | ROBIN | PHILIPP
BESCHORNER | PATRICK | FRANK ERNST
BESNYOE | CLAIRE | MARGARET
BETHAM-GRIMMOND | CHRISTINE | SUSAN
BEVILACQUA | KAREN | JOAN
BHATIA | KUSH | RAJ
BICHET | CAROLINE |
BIN SABRI | PELANGI | IMAN
BIN YAACOB | HAMZAH | OMAR
BINZ | JUNE | PYCHON
BIRNBAUM | DZELILA |
BISCONTI | NANCY |
BITOUNIS | HELEN | C.
BJERKLI | AKSEL |
BLACKWELL | PENELOPE | JANE
BLAIN | PATRICK |
BLAIR | DEBRA | PAYON
BLAKE | COURTNEY | ELIZABETH
BLAKE JR | WESTON |
BLANDINE-SMITH | NANCY | MARIE
BLASBERG | BRUCE |
BLASBERG | LYNN | SUSAN
BLATNY | JANET | MARTHA
BLENCOWE | ANDREW | ROSS
BLENIS | PETER | VAN ATTEN
BLOCH | LINDA | RUTH
BOBRINSKY | PETER |
BOCK | HELOISE | CATHERINE
BODART | MAXINE | ANNE
BODEUX | TRENT | RAYMOND
BODEUX | TRINA | LYNN
BODMEIER | ROSE | MARIA
BOEHM | TIMOTHY | DAVID NEWMAN
BOGLE | MICHAEL | STEPHEN
BOGO | GEOFFREY | AARON
BOHNI | SOPHIE | CLAIRE
BOLES-BURLEY | ARLENE |
BOLLETER-SEITZ | SARAH | ELISABETH
BONE | DOROTHY | ELIZABETH
BONIELLO | BONITA | ALEXANDRIA
BOOMER | RICHARD | AUBREY
BORCARD | DOMINIQUE | CATHERINE
BORG-CARPENTER | FRANCES | CHARLOTTE
BOROWOY | ALAN | MICHAEL
BOST | JACQUES | LAURENT
BOUGARY | AMIRAH | A.
BOUGARY | SALEH | A.
BOUGARY | SARAH | A.
BOURQUIN | MALEA |
BOUVARD | MARCEL | ALBERT
BOUZAN | SAMANTHA | JANE
BOWLING | HENRY | ANTHONY
BOYCE | AUDREY | DENISE
BOYCE | CHRISTOPHER | GEORGE
BOYCE | EDWARD | JOHN
BOYES | ADRIAN | LAIRD
BOYLES | DAVID | LE ROY
BRADBURY | MARY | VALLIANT
BRADY formerly THOMPSON | GEMMA | SUSANNAH LOUISE
BRAHM | GARY | LEE
BRAND-DOLIVO | SYLVIE | EMMANUELLE
BRAUCHER | NOEL | BEN
BRAUCHLE | CHRISTIAN | KARLHEINZ
BRAUN | HARRISON |
BRAUN | ZACHARY | DAVID
BREDESON | SUSAN | MARIE
BREITENBACH | RACHEL | ELLEN
BRELSTAFF | CAROL | JEAN
BRETT | DIANA | CAROLINE
BRIGGER-GUEGLER | JANINE | SIMONE
BRIGSTOCKE | CLARE | FRANCES
BRINKERHOFF | DAVIS | MEIER
BRISSY | CHARLES | ARTHUR
BRISSY | HELENE | JEANNE
BRITTON | ANNE |
BROCKHAUS | ROBERTA |
BRODSKY | HILARY | S.C.
BRODSKY | SAMUEL | EDWARD BENJAMIN
BROMAN | SANUEL | NOZOMU
BRONNER | LIONEL |
BROSSARD | MARIALENA | CHRISTINA
BROWN | ALASTAR | JOHN
BROWN | CHRISTOPHER | STEPHEN
BROWN | DAHVID | NATHANIEL
BROWN | GRAHAM | RUDGE
BROWN | JONATHON | ERIC
BROWN | KENNETH | WILLIAM
BROWN | SUSANNE | MARTINA TANJA
BROWNSELL | ELIZABETH | JEAN
BRUGMAN | JAIME | LEIGH
BRUHWILER | LUCAS | KEVIN
BRYANT | RACHEL | ELIZABETH
BRYSON | SAMUEL | ROSS
BUCHER | KARIN | RUTH
BUCKINGHAM-MCCAIN | LAUREN | ELIZABETH
BUCKLE | CLARE | ERICA
BUERK | ALEXANDER | GUNTER
BUHLERT | NERINE |
BULGER | DAVID | MICHAEL
BULGER | ELEANOR | JEAN
BUNDT-AEBY | MAYA |
BURE | PAVEL |
BURGI | ULRICH | CORNEL
BURKHARD | MICHAEL | JEAN
BURNICHON | JEAN | C.G.
BURNS | ELIZABETH | ANN
BURNS-WATSON | CONNIE | JEAN
BURQAN | TALAL | IBRAHIM
BURROWS | JAMES | ROBERT
BURROWS | LYDIA | KAREN
BURTH | AMANDA | KRISTEN
BURTON | CAROLYN |
BUSSMANN | ROGER | PATRICK
BUTLER | MARINTHA | HAZEL
BYRAM | ROY | KEITH
CAFIERO | MICHAEL |
CAHOON | MICHAEL | STEWART
CAIN | ASHLEY | KRISTINA
CALDWELL | DONALD | CLIFFORD
CALDWELL | IN | SUK
CALLAHAN | WILLIAM | JAMES
CALLANDER | GARY | RUSSELL
CALLECOD-WEINRICH | KIMBERLY | ANN
CAMPBELL | FIONA | HELEN
CAMPBELL | JUDITH | LEE
CAMPBELL | THOMAS | ROBERT
CAMPIGOTTO | SARAH | EMMONS
CANNON | BRETT | ALLEN
CAORSI SAELZER | MARIA | INES
CAPPER | CLARE | MAYO EVELYN
CAPPOS | KENNETH | PETER
CARADONNA STITCHMAN | KATHRYN | ANN
CARALL-GREEN | DANIEL | C.
CARD | ROBERT | MICHAEL
CARIUS | ALEXANDER | NOEL ERNST
CARLE | LUCIA | MARIA
CARLISLE | CARLA | COOPER
CARLISLE | SAM | FENIMORE COOPER
CARLSON | ROMA | ARLENE
CARNOVALE | FLORENCE | ANGELINE
CARRUTHERS DEN HOED | REBECCA | SUZANNE
CARSLEY | LISA | ANNE
CARSLEY | LISA | ANNE
CARTER | GREGORY | JOHN
CASAGRANDE | OTTAVIA | CARLA P.G.
CASEY | JOSEPH | ROMAN
CASLICK | TAMMY | LING
CASTRO | GLORIA | INES
CATES | KATHLEEN | MARIE
CATHCART | DAVID | JOHN
CAYER | LORRAINE | IRENE
CAZENAVE | EDWINA |
CERIANI | ROBERTO |
CERIN | SUZANNE |
CETNAROWICZ | MIREILLE | HELENE CLAUDIA
CETTO | ADRIANNA | MARIA
CHAHIN | ELIAS | ANDRES
CHAMBERS | AMY | LIMEL
CHAMPONNIOS | ELIZABETH | POSTON
CHAN | GRACE |
CHAN | KOON | LUN
CHAN | MARY |
CHAN | WING | CHEONG
CHANDLER | CAROL | LYN
CHANDLER | MITCHELL | LYNDON
CHANG | FLORA | CHIA-I
CHANG | LI-EM |
CHANG | YUNKEUM | KIM
CHAPESKIE | HENRY | HETH
CHAPMAN | SEAN | BRENHAM
CHAPPLE | NANCY | ANDREA
CHASTANET | FEOLL | NINA GABRIELLE
CHAY | BENJAMIN | WAI-PENG
CHEBUK | ADELA | DIANA
CHEE-A-TOW | CARLO | COLUMBUS
CHEHOURI | ADEL | RAFIC
CHEN | DEANNA | MARIA
CHEN | FANG |
CHEN | PEI | HSIEN
CHEN | TERENCE | TI-JEN
CHEN | WEN-CHUAN | CHIANG
CHEN | YUN | QIN
CHEONG | KELVIN |
CHERNIN | DAVID | ALLEN
CHERTOK-BLIN | PASCALE | ANNE
CHESHIRE | CATHERINE | LANMAN
CHEUNG | JONATHAN | CHUN-HEI
CHEVALIER | ANNE-LAURE | MARIE
CHEVALIER | SHAUNA | ANNE
CHEVALIER | VIVIANNE |
CHIANALE-SCHAFFNER | CLAUDIA | DENISE
CHIARENZA | MARGUERITE | P MILLS
CHILLSON | KENNETH | MARTIN
CHIM | MARGARET | KIT
CHINCHOLI | SUCHITRA | BASAPPA
CHIPCHASE | ANGELA | ELAINE
CHIRATHIVAT | JUTHATHAM |
CHIU | FLORA |
CHLISTOVSKY | CAROLYN | BEATRICE NOLAN
CHOI | BONITA | MING YUI
CHOI | IVAN | SIU LUNG
CHOI | KEVIN | EUNSEOK
CHOI | MICHELLE |
CHONG | HUI | MIN
CHOU | LEO | HUNG LI
CHOU | YU-CHIA | TERRY
CHOW | ESTHER | OI SI
CHUDACOFF | MICHAEL |
CHUN | BIANCA | GI HEUN
CHUNG | ALVIN | GITAEK
CHURCHER | JOAN | ELIZABETH
CIVINS | MARCIE | FAYE
CLARET DE LA TOUCHE | FLORENCE | DOWNS
CLARK | CHRISTOPHER | JAMES
CLARK | DAVIS | WAYNE ALBERT
CLARK | JOHN |
CLAUSSEN | CAROLINE | CHRISTA
CLAY (NEE KAYS) | HEIDI | ROSANNE
CLEMENTS | DEBORAH | NORTON
CLEMENTS | JOHN | CHRISTOPHER
CLIFFORD | NAOMI |
CLOQUET-LAFOLLYE | SIMON | LAURENT
COATES | CANDACE | ETHEL
COATES | LA TASHA | ANDREA
COBIN | JOHN | MACAREWICH
COCKERLINE | LESLIE | SANDRA
CODINA | SUSANA |
CODINA-JOHNSON | ELENA |
COHEN | DAVID | HENRY
COHEN | PHILIP | EDWARD
COHEN | YAIR | HANOCH
COLBY-LOPEZ | NANCY | ELLEN
COLE | LAURENE | MAE CHAMLEE
COLLAND | JAMES | PETER
COLLINGS | ERIC | OWEN EGRI
COLLINS | CATHERINE | ANN STRICKLAND
COLLINS | JESSICA | ANNE
COLLINS | JORDAN | KLAE
COLLINS | NATALIE | ANN
COLLIS | PAUL | DAVID
COLTER | BARBARA | LOU
COLTER | SUZANNE |
CONFUORTI | FRANCESCO |
CONNOLLY | JANA | MICHELLE
CONNOR III | GEORGE | WILLIAM
CONWAY | LAUREN | JULIA
COOK | ALASTAIR | STUART
COOK | AMY | CLAIRE
COOK | PATRICK | HENRY
COOKE | EMILY | JANE
COOKE | LARA | JANE
COOPER | AUSTIN | CHEUNG
COPP | ANNE | KATHERINE
COPPO | SUSANA | NORMA
CORBETT | CLAIRE | BRIGID
CORLET | RACHEL |
CORNISH | SHELLEY | ANN
CORNWELL | CHARLOTTE | ELIZABETH
CORRIGAN | KEVIN | THOMAS
CORSON | WENDY | JUNE
CORWIN | STEVEN | JAY
COSSAVELLA-RAUCCI | LILIANA |
COTE | MYRIAM |
COULOMBE | JANET | P.
COULOMBEZ | ROMAIN | BERNARD
COULTHARD | JANINE | DAWN
COURCHENE | MARGARETA | TERESA
COVELIERS | GENEVIEVE | RENEE
COX LOATES-TAYLOR | NANCY | KAY
CRAGGS | RICHARD | ANDREW
CRAIG | ANN | MERRY
CRAMER | MARC | ALBERT
CRAWFORD | LESLIE | BURTON
CRAWFORD | PHILIP | KING
CRAWLEY | BENJAMIN | ALLEN
CREPAIN | FREDERIC | F.H.
CROCKER | RUTH | ELIZABETH
CROMER | RUTH | ELIZABETH
CROTTY | BETH | SARA GOULD
CROWELL | ALEISHA | DAWN
CRUMP | MARGARET | ANNE
CUELEMANS | HERVE | JOSEPH
CUESTA | MARIA | ISABEL
CUESTA | MONICA | ADRIANA
CUFF-CLINTON | CHRISTINE | ANN
CUFFLEY | JENNIFER | BILLIE JEAN
CULLWICK | LIZA | KAY
CUMMINS | EVA | PATRICIA
CURRIE | JANICE | LYNN
CUTHBERT | CHRISTOPHER | MICHAEL
DAHAN | NAGHAM | MUWAFFAQ
DALE | MELISSA | LYNNE
DALIDOWICZ | NARY | LYNN
DALON | RICHARD | L.
DAMANI | ASCHAK | MIRISCH
DANDU | RAJGOPALA | RAJU
DANDURAND | ANNE | MARIELLE
DANESI | RICCARDO | CARLO
DANTE | BARBARA | JEAN
DANY | ANDREA | MARIE
DAOU | CEDRIC | CARL
DARCY | ROBERT | MARTIN
DARE | JOHN | ASHTON
DAS | KAMALA |
DAVEY | ANTHONY | PATRICK
DAVIDSON | CHRISTOPHER | WILLIAM
DAVIDSON | GREGORY | JOHN
DAVIES | JULIAN |
DAVIES | PETER | WILLIAM
DAVIS | JAMES | BEAUMONT
DAVIS | MATTHEW | DAVID
DAWKINS | JULIANNE | SANDRA DERROL
D'CUNHA | STEPHANIE | ROSE
DE BARROS PIMENTEL | MARCELO | B.
DE BOUCAUD | CEDRIANE | MARIE
DE COTIIS | ANGELA | CHRISTINE
DE CRISTOFARO | JACQUELINE | KRISTINA
DE FRANCESCHINI | LAURA | ELENA
DE GARIS | JOY | CONNIE
DE JONG | JOHN |
DE JOUNGE | ESTELLE | LOUISE
DE JOUNGE | RICHARD | ARDENDT
DE LA GUARDIA | MICHELLE |
DE LA MOTA | JORGE | MICHAEL
DE LA ROCHEBROCHARD | CECILE | MARIE
DE LACZKOVICH | ROBERT | ELEK
DE LANTREMANGE | FLORENCE | CHARLOTTE D'OREYE
DE LANTTREMANGE | SEBASTIEN | N D'OREYE
DE LEON | CLARA | NIETO PONCE
DE NICOLAY | ELIZABETH |
DE RANITZ | OLIVIER |
DE RANITZ | SEBASTIAN |
DE SAINT PERIER | FRANCOIS |
DE SAINT PERIER | FREDERIQUE |
DE TAURINES | CHRISTOPHE | GAILLY
DE YOUNG | JOEL | MELTON
DEAK | ESTEBAN | ALFREDO
DEAR NELSON | MARILYN | BRUN
DEBS | DINA |
DECRE | CHRISTINE | NICOLE
DEIN | DARREN | SPENCER
DEL CURTO | RITA | ALAY LIBERA
DEL PUNTA LAMBERT | SERENA |
DELHOVE | ALBAN | RODERICK
DELOUX | ELENA | SYLVIE PELTIER
DELVOS | OLIVER | STEPHEN
DEMETRICK | MELANIE | GAYLE
DEMMERLE | SARAH | IMRAN
DENKERLEY | JONATHON | CHRISTOPHER HANSEN
DENNEHY | JOHN | BRENDAN
DENNEMEYER | JOHN | JAMES
DENOIRJEAN | SYLVIE | MARIE JOSEE
DENT-LARKINS | NICHOLA | PIERCE
DERSNAH | DOUGLAS | FIELD
DESAI | SUBHASH |
DESCHAMPS | MADELEINE | CARMEN
DESOUZA | LYNDSEY | MARIE
DEVITO | ANN | FRANCES
DHEDAH | NEIROUZ |
DIAMOND | JOANNA | MARY
DICKINSON | SUSAN |
DICKSON | ROBERT | EDWARD
DIEDE | PHILLIP |
DIEHL | CORNELIA | YVONNE
DIELEN | JACQUELINE | ILONA CYNTHIA
DIER | MICHAEL | WERNER
DIETZ, JR | KINGDON | BARRAT
DIGGINES | DIANA | FRANCES
DILLON | NORIKO |
DION | NORMAN |
DIRKS | ELIZABETH | TIJA LUSTE
DIRR | ANDREW | MICHAEL
DIXON | LISA | IRENE
DJAJASASMITA | ALAN |
DODDS | ALISON | CHRISTINE DE RENZY
DOERFLER | OWEN | CHAN
DOERR | KATHERINE | MILA
DOMINGUEZ-BRUHLMANN | CORINNE | RENEE
DOTY | DIANE | MARIE
DOUCET | LISA |
DOUGLAS | PHILIP | BURNHAM
DOWLING | ALAN | CLAYTON
DOWLING | MARTHA | JEAN
DOWN | ROBIN | FRANCIS
DOWRIDGE | SEBASTIAN | DELANO
DOZE | SANDRA | L.
DREW | DOUGLAS | ARLEN
DREYFUSS | SIMONE | MICHELLE
DRISCOLL | DOUGLAS | EDWARD
DROR | RONEN |
DROUIN | DANIEL |
DUBROY | JOYCE | AGNES
DUCHESNE | JULIEN | ROBERT JEAN
DUERST | VIVIANE | SARA
DUGAN | ALISON | KING
DUKKERS VAN EMDEN | DOROTHEA | MARGUERITE
DUNLOP | ANNE | ELIZABETH
DUNN | MEGHAN | TAYLOR
DURAND | MARION | CHRISTINE-JACKIE
DURATE-BALTAZAR | CAROL | DA CRUZ
DURDAN-DALSEG | AMANADA | MARIE
DUZY | BARBARA | MAE
DYKSTRA | JOHN | RANDALL
DZIALLAS | CLAUDIA |
EADEN | NICHOLAS | NEAL
EAGLEFIELD | GARTH |
EARLE | WENDY | JACQUELINE
EATON | ELLEN | THERESE WEHNER
EDWARDS | RODERICK | BLAIR
EDWORTHY | STEVEN | MALCOLM
EGERER | EILEEN | JOSN
EHRMAN | LLANA | MIRIAM
EID | ARWA | ABDULAZIZ
EILERS | FLORIAN | GEORGE
EIRIKSON | BARBARA | ANN
EISENBERG | ROBIN | ANN
EISENHUT | SUZANNE | ESTHER
EISENTHAL | NAOMI | ANN
EISSNER | KATHLEEM | ELAINE
ELANDER | FREDERICKA | LISA
ELLA | KRISHNA | MURTHY
ELLERBY | MARC | THEODOR
ELLINSON | NATALIE |
ELLIS | SUSAN | CRAIG
EL-OKDAH | FAROUK | ABDELBAKY
EMMONS | ELANA | CHRISTINA
ENGELBERG | ANATH | HURWITZ
ENGELBRECHT | LINDA |
ENGELMANN | LOTHAR | KLAUS
ENGELMANN | WALTRAUD | HERTA
ENGLISH | BRIAN | PHILIP
ENNIS-DELVAUX | KRISTIN | SIOBHAN
ENTREKIN | ALISON | KAY
EREMINA | ELENA | SVJATOSLAVNA
ERRINGTON | MIRIAM | ELIZABETH
ESAM | MARIHELEN |
ESTEVE | MARC | EDWARD
ETUE | CHRISTINE | ANN
EVANS | DANIEL | FEREDERICK
EVANS | JAMES |
EVANS | LOUELLA | MAUREEN
EVANS, JR | LANCE | EDWARD
FABEL | HELGA | DIANE
FABER | CRISPIN | SIMON THURLOW
FAHLMAN | DIANE | ELIZABETH
FAHLMAN | RACHEL | LEE EYTEL
FAHRNI | JENNIFER | OZORA
FAISAL | MISHAL | KHALID
FALK | MARVIN |
FALKINER | MADELEINE | ANN
FALTINGS | NIELS | VOLKER
FAN | SAMUEL | JOSEPH
FANG | XIU | ZHUANG
FANKHAUSER | CATHERINE | HENRIETTE
FANNING | ELAINE | JEAN
FANTACCI | CRISTINA | ELDRIDGE
FANTACCI | GIAN | FREDRIC
FARQUHARSON | ROBERT | RHOADES
FARRA | TAMARA |
FARRELL | THOMAS | EDWARD JOHN
FARSEROTU | ALIX | MARIE CAROLINE
FAULKNER | LINDA | DIANE
FAURE | CHRISTINE | GENEVIEVE POLONCEAU
FEI | PATRICK |
FEIGEL | INGRID |
FEINBERG | NICHOLAS | DAVID
FELICITE | MARIE | GENEVIEVE
FELLOWS | JOAN | EMELIE
FELLOWS | MAX | ROBERT
FENTON | EUAN | DAVID
FERGUSON | AILSA | MURRAY
FERMAI | SIMRAN | KAUR
FERRIS | DAVID | TIMOTHY
FERRY | KENT | FRANKLIN
FESTING-SMITH | LINDA | CECILE
FIELD | BENJAMIN | CASPER
FIELD | DOROTHY | MARION
FIELDS-SILVER | JUSTINE | CORINNE
FIFE | IAN | MALCOLM
FIGUERAS-DOTTI | NICHOLAS | ALEJANDRO
FILIPKIEWICZ | ANTONI | MICHAEL
FINDLAY | MATTHEW | ROSS
FINK | EFRAT |
FINLEY | PATRICK | ANDREW
FIRMENICH | NADEGE | ANNIE
FISCHEL-BOCK | HENRY | PAUL RICHARD
FISCHER | MYRIAM | CELINE
FISCHER | SOLANGE | ILONA
FISHER | CYNTHIA | DIANE
FISHER | MADELEINE | ELIZABETH BENZ
FISHER-TAYLOR | GAIL |
FITZGERALD | GABRIELLA | ELAINA
FITZGIBBONS | ALEXANDER | SEAMUS
FLADERER | ALEXANDER | ERIK
FLETCHER | FRANCES | KAY
FLICKINGER | MATTHEW | RAYMOND
FLORI | DENNIS | ALAN
FLORIAN | GIUDITA |
FLUGEL | MONICA | BARBARA
FLYNN | MATTHEW | JEREMY
FOO | CELINE | JOSEPHINE
FORBES | ASHLEY | ELIZABETH
FORD | DEBORAH | PERRIN
FOREMAN | LINDA | JOYCE JEAN
FORMAN | MADELEINE | ISABEL
FORSTER | KEN | PAUL
FOSSEN | SAMIRA | VAN
FOSTER | GARY | KIRK
FOSTER | STEPHANIE | ELIZABETH
FOTHERINGHAM | JILL | CHARLOTTE
FOUCHARD | FABRICE | JEAN-MARC
FOWLER | JOHN | DAVID
FOWLER | PAMELA | LOUISE
FOX | JAMES | LYTTLETON
FRAISE | HENRI | LOUIS
FRAISE | RALPH | FRANCES HENRI
FRANC | SYLVIA | ISABELLE
FRANCHETTI | GIORGIA | ANDREA
FRANCOIS | MARGUERITE | CATHERINE
FRANKLIN | DOMINIC | CLYDE
FRAU | LORENZO | JOSEPH
FRAULEY | ALICE | ELIZABETH
FREED | KIRSTEN | JANEE
FREEMAN | NICOLAS | CHARLES JACOBUS
FREEMAN | TAMARA | SUE
FRIEDE | GERD | RAINER
FRIEDMAN | JOHN | WILLIAM
FRITSCHI | DANIEL | RENE
FRITTER | CATHERINE | ISOBEL
FROSSARD DE SAUGY | CHRISTIAN | ERIC
FROST | ALEC | JAMES
FROUNDJIAN | LEON | YOUSSEF
FRY | NICOLA | JANE
FUCCI | MARIE |
FULLER | SARAH | ANN
FULLERTON | ARLENE |
GABBANI | GISELLE | DEVORAH
GABBANI | SILVANO | L.
GADIENT | RETO | NIKOLAUS
GADISSEUX | THOMAS | CHRISTIAN
GAETE-HOLMES | RICHARD | GEORGE
GAGE | DEBORAH | PAMELA
GAGNON | PIERRE | MIVILLE
GAHAN | JOHN | JOSEPH
GAIFFI | JULIA | NATALIE
GAILLY DE TUARINES | CHRISTOPHE-HADRIEN |
GAINES | JOANNE | LOUISE
GALEA | CHARLAYNE | JOSEPHINE
GALUSTIAN | EMILY | HELEN
GALUSTIAN | JAMES | HAIG
GAMBETTA | MARIA | CRISTINA
GANAPATHY | KOKILAVANI |
GANTNER | DASHIELL | CARRILLO
GARRETT | SARAH | ELIZABETH
GARRISON | FOREST | LEE
GASTON-PHILIPPE | QUENTIN | LAURENT NICHOLAS
GATFIELD | NICHOLAS | D.
GAUCHERON | MARTINE | MYLAINE
GAUDINO | ARIANNE | SARA ALDRICH
GAUTEPLASS | KARIN | BERGITTE JOHNSEN
GEHL | KRISTINE | RANA
GELDART | CAROL | ELIZABETH
GEMME | THERESE | THIBODEAU
GENDRON | NATHALIE | HELENE
GEOERGE | ANTHONY | DALE
GERARDO | LUCA |
GERBER | FRANKLIN |
GERHART | STACEY | MAY
GERICKE D'HERWYNEN | ANN | LAURE
GERMEROTH | ALEXANDRA | SONIA
GERWECK | NADIA |
GERZON | PHILIP | NICHOLAS
GETTY | JOSEPH | ANSELM
GFELLER | DIANA | PATRICIA
GIANNAMORE | JOSEPH | STEVEN
GIBBS | JEFFREY | SCOTT
GIGLIOTTI | JASON | FEDELE
GILBERT | SCHUYLER | LEE
GILES-CEREZO | CAROL | GILES
GILLAM | ADRIENNE | NEWCOMBE
GILLEN | KEVIN | PAUL
GINGRICH | DUANE | EVAN
GINSBURG | JESSICA | KATE
GINTZ-AMINOFF | JUDITH | GAYLE
GLADSTONE-TENNANT | STEPHEN |
GLENNON | BRIAN | PATRICK
GLOOR | PHILIPP | MARC
GLUNZ | ANGELIKA |
GOETHERT | ANGELA | MARIE
GOGARTY | AMY | MARGARET
GOGARTY | RAYMOND |
GOGNIAT-DROZ-DIT-BUSSET | CHRISTINE | M.H.
GOH | ANTHONY | DOUGLAS
GOLAN | EFFIE |
GOLDBERG | YARON | ISAAC
GOLDSTEIN | DANIELLE | ERIN
GOMBERT | GENE |
GONZALEZ | ANDREA | CLALUDIA
GONZALEZ-VALDES | RICARDO | BENJAMIN
GOOD | KATHLEEN | JANE
GOODER | STEPHEN | JOHN
GOODMAN | DEAN |
GOODWIN | VICKI | LYNNE ROGERS
GORDON | BRUCE | ALLAN
GORDON | JANET | JANE
GORDON | MICHAEL |
GORMAN | MADELINE | JENNIFER
GORMAN | THOMAS | DANIEL
GOULD | MITCHELL | S.
GOURI | NEIL |
GOVER | RUTH | ANN
GOYDER | JOANNA | RUTH
GRABOSKI | DIEDRE | ELIZABETH
GRACE-CAMPBELL | DONA |
GRACE-CAMPBELL | PAUL |
GRAF | CAROL | CECILE
GRAF | DARREN | BRADLEY
GRAF | FERN | RONNIE
GRAF VON SPONECK | HANS | ALEXANDER
GRAFF | MEGAN | ELIZABETH
GRAHAM | MARLYS | JUNE
GRAHAM | MICHELLE | RENEE
GRAHAM-MOXON | MARIANNE |
GRANGE | JULIE |
GRANNIS | ODD | MARTIN
GRANT | BARRY | ANDRE
GRANT | REBECCA | ANNE
GRANT | ROSALIND | JUNE
GRANT-GOODEY | ELODIE | LEA
GRANTMYRE | JANE | DOROTHY
GRAY | ROBERT | JOHN
GREAUX | JOANNE | DENISE
GREB | EMILY | C. MEINGAST
GREEN | BARRY | SCOTT
GREEN | MICHAEL | BRICKER
GREENBAUM | FRANCES | RUTH
GREENE | OLIVER | RAYMOND
GREENE | RAYMOND | ALEXANDER
GREENWALD | MICHELLE | RUTH
GRIFFIN | JOY | ANN
GRIFFIN | PATRICK | COLEMAN
GRITZ | CATHERINE | LOUISE
GROGAN | RACHEL | WELLS
GROGAN | WELLS | CAMPBELL
GRONBERG | THERESA | ANN
GROSS | ASHER | AHARON
GROVER | CHRISTINA | LOUISE
GROVES | MATTHEW | LANE
GRUAZ | LAURANE |
GRUBER | ARLENE |
GRUENIG | BENJAMIN | DAVID
GRUNWALD | SORIN |
GUBITZ | GREGORY | DAVID
GUENTHER | MICHELLE | YOLANDA
GUEUR | NATHALIE |
GUIDA | JOETTA | MIRACLE
GUIDI | MARCO |
GUILLARD | OLIVIER | GILLES LOUIS
GUITIERREZ-MATURANA-LARIOS | CHRISTINE |
GUNASHEELA | MADHAVI | NAYANTHARA
GUNAWAN | MICHAEL |
GUNDLACK | ASHLEY | FRANCHESA
GUNSON | CHRISTOPHER | DARWIN
GUNTHER | ALICE | ELISABETH
GUTHERZ | MADY | M.
GUYER | ELIZABETH | ANNE
HA | HYUN | JIN
HABGOOD | GEORGE | MICHAEL
HAENNI | CATHERINE | MARIANNE
HAFIZOVIC | SADIK |
HAGE TEUGHELS | DIANA | LYNN HAGER
HAGGARD | FRANKLIN | JOHN
HALEY | STEVEN | CHRISTOPHER
HALL | MARISA | LI-LIN
HALL | SHIVANI |
HALL | SUSAN | LOUISE
HALLE | MARTIN | ROGER
HALUSCHAK | MEREDITH | GAIL
HAMER-HEIERLI | IRENE |
HANCOCK | CHRISTOPHER |
HANKS | PAUL |
HANNAY | MARCIA | KAY
HANNESON | KAREN |
HANRAHAN | KAREN | SUE
HANSEN | DOAN | NGUYEN
HANSEN | MARY | CARLA ONSLOW
HARDEGG | ALEXIUS | LEOPOLD
HARKNESS | JOHN |
HARKNESS | NORMA | ESTHER
HARKNESS | TOM |
HARMELINK | MILTON | DUANE
HARPER | DAVID | EDWIN
HARRELL | JOHN | STEFAN
HARRIS | JOSHUA | TRINITY SEYMOUR
HARRYVAN | MARK | PAUL
HART | STEPHEN | ZIMMERMAN
HARTER | MAYA | LISSA
HARTWIG | SUSAN | ELIZABETH
HARVEY | JAKE | TAYLOR ROY
HASAN | FATIMA | MAJED
HASEGAWA | SHOICHI |
HASKINS | DENNIS | MICHAEL
HATFIELD | LAURA |
HATT | DENNIS | RAY
HAUCK | THERESE | ELIZABETH
HAUER-LEITNER | ROSANA |
HAWKES | LAURIE | JOAN
HAYDEN | JOHN | PATRICK
HAYES | DONALVIN | VICTOR
HAYKEL | MILA | R.
HAYTHORNTHWAITE | ALISDAIR | R.
HAZELWOOD | HERBERT | RALPH
HEALY | PAUL | FRANCIS
HEBRIDES-BAILLIE | DONNA |
HECKLEY | BARBARA | LEE
HEDAILY | NEHAD | SALEH
HEEDE | MONIKA | FELICE BERTHELSON
HEENEY | GOODITH | MARY FEILDING
HEER | ANGELA | BETTINA
HEIDEMANN | LINDA | BEA SZOLD
HEIDEMANN | ROBERT | ALBERT
HEIDERMANN | DOUGLAS | JOSEPH
HEINI | ALEXANDER | DONALD
HEINZINGER-BITZ | KARIN | TINA
HELDAL | LILLIAN | BRUN
HELLER | JANE | RACHEL
HELLINGA | MENNO |
HELME | JENNIFER | AGNES
HELWEG | ROSWITHA | ROZEMARIJN
HERNANDEZ | TRILCE | NAVARRETE
HERPIN | DIANE | ELISABETH
HERTEL-MARCYES | ANDREW | DAVID
HERTZBERG | EFRAT | MORAG
HESS | URI |
HEYWOOD | DUDLEY | RODNEY PHILIP
HIEBERT | LEILA | MAE
HIERSTETTER | ASTRID | SHANNON
HIGGINBOTHAM | EDWINA | BERNICE
HIGGINS | MARILYN | GRAY
HIGGINS | MICHAEL | SCOTT
HIGHFIELD | MARIE | ELIZABETH
HILDEBRECHT | SUSANNE |
HILL | CHARLES | MICHAEL
HILL-LAKHANPAL | AMANDA | SARAH ELIZABETH
HILLIARD | ELAINE | GARDINER WELCH
HIMEL | ANDREA | JENNIFER
HINCAPIE | LUIS | MIGUEL
HINES | EMMA | LAUREN
HIOB | DANIELA | ADELE
HIROSE | JUN |
HIRSH | ALLEN | JAY
HO | GRANT | KYE-CHUN
HOBSON | CECILIA | ELIZABETH
HOBSON | MARGUERITE | JOAN
HOCHROTH | BENJAMIN | DAVID
HOCHROTH | JAMES |
HOFMANN | PAMELA | MARIE
HOFSTETTER | MATTHIAS | WILHELM
HOGAN | MARY | ANN
HOLDAR | SENAN | JAMAL
HOLDEREGGER | PATRICK | WALTER
HOLLENSTEIN | SUSANNE |
HOLMES | BLISS | ANN
HOLMES | DIANA | ELIZABETH
HOLMES | RICHARD | ALLEN
HOLST | ERIC | DOUGLAS
HOLZER | KURT |
HOLZER | PADMAVAKTHRA | SEPALA
HOMSANY | MICHAEL | J.
HONESS-ROE | ANABELLE | JANE
HONG | CHARLIE | LIN
HONG | MING | GEE
HOOGLAND | PETRA |
HOOPER | ROBIN | PERVERIL
HOROWITZ | SARAH |
HOROWITZ DODD | IAN | DAVID
HOUSTON-BLANCO | NOELLE | MARY
HSU | DAPHNE |
HSU | DEREK |
HSU | EUGENE |
HSU | JENNIFER |
HSU | JER-JAW |
HSU | YAN | WYN DEBRA
HUANG | KOUIS | LIANG-GEE
HUBER | MICHAEL |
HUDAK | JULENE | MARJORY
HUDD | JONATHAN | CHARLES WARNE
HUFF | HELEN | LOIS
HUFFMAN | ALEKSANDRA | KLARA
HUGET | CHRISTINE | MARIE SOPHIE
HUGHES | CAROL | SUE
HUGHES | LILLIAN | MARIE
HUH | ANTHONY | JIN HONG
HUH | ELBERT | LEE
HUI | BETTY | LEUNG
HUI | ERIC |
HUIG | SASKIA |
HUIJG | JAN | RUTGER COENRAAD
HULBERT | MADGE | LYMAN
HUMBEL | LILIAN | IREN
HUNT | HELEN | LOUISE
HUNTING II | CHARLES | FREEMAN
HURNAUS | CLAUDIA |
HURSCHLER | JENNIFER |
HURTIG | DORENE | SYLVIA
HUSTIS | ANN | ELIZABETH
HUSYIN | AHMED | ABDULLAH
HUTCHINSON | KELLY |
HUTTER III | BRIAN | HERMANN
HWANG | JUNGAH | CLAIRE
IAGOLNITZER | MICHEL | RENEE
IBRAHIM | HOSSAM | ABDALLAI
IMERI-LAMPRECHT | STEPHANIE | DEBORAH
IMRIE | ALISON | ROSEMARY
INFIRRI | MARY | ALICE FESSENDEN SARDO
INGENHOUSZ | MARTINE | S.
INGERFIELD | JULIE | ANNE SCHMID
INY | YORAM | ZION
INY-GABAY | KHAZZAM | KAREN
IONESCU | MARIUS |
IORI | ALEXANDER |
IRELAND | JUDITH | ANN
JABRE | HAYTHAM | FAROUK
JACKIW | JENNIFER | GRACE
JACKMAN | ALANA | JANE
JACKSON | ALICIA | RUTH
JACKSON | CYNTHIA | ANNE
JACKSON | JOHN | ALAN
JACKSON | SEAN | PATRICK
JACOBSEN | RUSSELL | JAMES
JADALLAH | SALIH | M.
JAFFE | LUISA | ISABELLA
JAHN | CORNELIA |
JAIN | RAVI | KUMAR RANDAL
JAIN | SIDDHARTH |
JAKOB | VIRGINIA | AURELIA
JAMES | JOAN | LAFOUNTAIN
JAMES | MICHAEL |
JANAK | ALOIS | JOSEF
JANN | ERNEST | JOSEPH
JARAMILLO | SANTIAGO | EUGENIO
JARRETT-COX | ELIZABETH | ANNE
JEFFERSON | JOEL | GREGORY
JENSEN | BRYANT | JEFFREY
JEONG | SHARON | EURIM
JEPSON | CHRISTINA |
JETZER | JACQUELINE | DINAH
JHUN | DELIA | EUN YOUNG
JI | XIANGDONG |
JINN | SHYUE | GANG
JOHNSON | ALEXANDER | BORIS
JOHNSON | CRAIG | WILLRETT
JOHNSON | ERIC | ANTHONY
JOHNSON | HAROLD | WENDEL
JOHNSON | JUDITH |
JOHNSON | MARY | JOAN
JOHNSON | TAYLOR | ALEXANDER
JOHNSTON | AIMEE | REDDING
JOHNSTON | CHRISTOPHER | APPLEBY
JOHNSTON | TAMI | LINNAE
JOHNSTON | WILLIAM | KENNEDY H
JOLY | KIMBERLY | CASTELLE
JOMINI | DANIEL | GEORGES
JONCAS | JEAN-PIERRE | MARCEL
JONES | GARETH | ARNOLD DOWLING WYATT
JONES | KELLY | ERIN
JONES | OWEN | GRAHAME
JONES | SARAH | JANELLE
JONES | TAWNYA | LYN
JORBA | VIVIAN |
JOSEPH | SONIA | RUTH
JOYE | MARGARET | ANN
JUILFS | JAMES | DAVID
JULIEN-MEDEIROS | GEWNDOLYN | SIERRA
JUNG-MALTESE | MICHELLE | MARLENE
JURIEN DE LA GRAVIERE | AUDE | JEANNE MASSIAS
KAELIN | AUDREY | EDWINA
KAHAN | ELLIOT | JAMES
KAMPHUIS | BARBARA |
KAN | JOHN | HOVAN
KANEB | GEORGE | GUSTIN
KANG | DANIEL | WEI-EN
KANNEGANTI | UMA | DEVI
KANTARJIAN | GERARD |
KANTER | SHELLY | LYNN
KANTHE | VIDISHA | DEVATTA
KAPP | JANA | SHAWN
KARAYAN | RICHARD | L.
KARLEN | KATHARINE | RENEE
KARPIAK | MELODY | LOUISE
KASSLER | JAMIE | CROY
KASSLER | MICHAEL |
KATES | ALLAN | JAY
KATES | ROBERT | NEIL
KATSONIS | NADIA | PANAYOTA
KATTER | YOUSEF | NAZIH
KATZ | SHELLEY | CAROL
KATZ | STEVEN | EDWARD
KAUFMANN | MARGOT | ROZENN
KAYE | EVA | MARIA
KAYE | JACLYN | RACHEL
KEATING | SARAH | LUCY
KEDAR | MOSHE |
KELLAS | HANNAH | CATHERINE
KELLER | MICHAEL | GREGORY
KELLETT | FRANCISCA | ELISABETH
KENNEDY | DAWN | CECILIA
KENNEDY | STEPHEN | ROBERT
KENNEDY-SHEA | TRINA | JOYE
KENT | LAURIE | RENEE
KENYON | COLLEEN | ELIZABETH
KEPPENS | CLAUDIA | STEFIANIA PAULINA
KEROS | PHILIP | GEORGE
KERR | LYNDA | MARIE
KERSHAW | ANNE | PATRICIA
KERSHAW | SHAYNA | DAVINA
KERSTENS | VERA | SPANGLER
KESSLER | AMY | LEAH
KESTENS | VINCENT | CLEMENT LEON
KESTER QUINN | KATHLEEN | JO
KETOFF | ANDREA | DIMITRI
KEUNINGS | XAVIER |
KEWALRAMANI | VIJAY | RADHAKISHAN
KHALILI | JOYCE | YAFFA
KHANNA | PARAG |
KHOURY | RAMI | BASEM
KIDD | GINGER | KAY
KIDNER | SARAH | ELIZABETH
KIENZLE | PATRICIA | JEAN
KIES-VOGEL | MARGARET | PATRICIA
KIKUCHI | JULIANA | BLYTHE DURAY
KIM | CATHERINE | YEWON
KIM | JOHN |
KIM | JOSHUA |
KIM | OK | KYUN
KIM | SANGKI |
KIMBALL-BROOKE | HELEN | CHASE
KIM-CHAN | LOUIZ | TZE HUI
KING | ELEANOR | WARWICK
KING | ELIZABETH | BARBARA
KING | FIONA | CLARE
KING | HILARY | JANE
KING | PHILIP | JOHN
KING | VICTORIA | SHANNON
KINSINGER | DEBORAH | JEAN
KINZER-BRUGGER | CHERYL | LEE
KIRBY-SPORRER | RUTH |
KIRK | MATTHEW | SIMON
KIRKHAM | COLLEEN | MARIE
KIRTON | NANCY | ELLEN
KISH | STEPHEN | JOHN
KISMARTONI-NUSSBAUMER | ANDREA | GABRIELE
KISTLER | LISA | BLAINE
KLAUSHOFER | ALEXANDRA | JANE
KLEILA | LINDA | JEAN
KLEIN | EDITH | MARIE-MONIQUE
KLEIN | JAMES | PHILLIP
KLEIN | JONATHON |
KLEINERT | CHRISTIAN |
KLEINMANN | KEVIN | SCOTT
KLENZ | ROBERT | WILLIAM
KLIMSCHA | MAGDALENA | FRANCES
KLONHAMMER | OLIVIER | PIETER
KNEBEL | PEGGY | ANN
KNECHT | GARY | WALTER
KNECHT | SANDRA |
KNIGHT | ROBIN | FRAN
KNOX | MARISA | ANNE
KOCH | JURG | PETER
KOCH | MICHEL | PAUL
KOCH | ROBERT | ALEXANDER
KOCKUM | SANDRINE | JOHANNA HELENE FRANCINE
KODROWSKI | JAMES | NICHOLAS
KOEHLER | CAROL | BRENDA
KOENKER | DEBORAH | MARIE
KOERBER | JUERGEN |
KOHEN | JENNIFER | ELIZABETH
KOLBUS | NORBERT | MICHAEL
KOLLER | ELENA | NATASCHA
KOLLER-DOLIVO | ANNE-CATHERINE |
KONAN | CORNELIS | GREGORY
KONINGS | DANIELLE | AGNES MARIA
KONUNTAKIET | TANAPA |
KOPELMAM-PERLMAN | ORIT |
KOPELMAN | HANNAH | LEVIN
KORTSCHAK | DORLIS | LYNNE
KOULACK | JOSHUA |
KOVACH | CHRISTINE |
KRAETTLI | CHRISTIAN |
KRAMER | CHRISTIAN | ALEX
KRAMER | ROGER | ALLEN
KRAPIVNIK | KRISTINA | KAROEVNA
KRAUSE | KATHERINE | ELLEN NORA
KREILING | DIRK | HOLGER
KRIEGER | JAY | HOWARD
KRUEGER | BENJAMIN | ALLAN
KRUEGER | RACHEL | MARIE
KRUMMENACHER | IRIS |
KUBLER | LINDA | MARIE
KUCHYNSKI | MICHELLE | LYNN
KUHL | HILDEGARD | ELIZABETH
KUIJTEN | PYTRONELLA | LEMIEN
KUNTZ | ROSEMARIE | DONNER
KUNZ | ZOE |
KURDI | KIM |
KURSCHNER | MARKUS | WOLFGANG
KUSH | LYDIA | JOANNA
LA ROACHE | DONALD |
LABATEUX | DENISE |
LACOUR | ASHLEY | ROGER
LACY | JANET | BETH
LAFFERTY | JUSTIN | WILLIAM
LAGACE | TIMOTHY | RAOUL
LAGIER | LUKE | EDGAR
LAHAM | MICHAEL | STEVEN
LAHY | KELLY | ANNE
LAI | SHUMIN |
LAI | YING | TA
LAKHANI | ALEEZEH | ZULFIQAR
LAKHANI | NAWAZ |
LAKSOV | JOAKIM | VESSBERG
LAM | RICHARD | CHI HING
LAMAN-TRIP | NICOLINE | QUIRINE MARIETTE
LAMBERT | SCOTT | MICHAEL
LAMERS | PASCALE | M
LAMING | RAYMOND | EDWARD
LANCEFIELD | JENNIFER | A.
LANDERER | MICHELLE | H.
LANDOLT | PATRICIA | ANDREA
LANDRY | CLAIRE | BERTHE
LANG | CHRISTINA | ROBYN
LANG | GREGORY | MICHAEL
LANGE | PETRA |
LAPLANTE | HELENE | VERONIQUE
LARSEN | JOHN | STEVEN
LARSEN | KAREN | WESTRHEIM
LARSEN-SPORRI | MIRIAM | JANET
LASH | SAMUEL | WAVERLY
LASSEN | MARCELLA | CHRYSANTHE
LASSONDE | CHRISTIAN | PIERRE
LASSONDE | JENNIFER | ANNE
LASSONDE | JULIE | ALEXANDRA
LAST | CHRISTINE | JENNIFER
LASUDRY | ROLAND | ANDRE
LAUKS | ALEKSANDRA | KATIJA
LAUKS | KRISTA | LACY
LAUKS | REBEKA | JULIANA
LAURENT | CAMILLE | EMILIE ANNE
LAW | SHERRI | LYNN
LAWLOR | COLLEEN | ELIZABETH
LAWRENCE | JOYCE | NORIEGA
LAWSON | DAVID | ROSS
LAWSON | JOANNAH | SMITH
LE | CHRISTOPHER | PHAN
LE | MARY | LINN
LE LIEVRE DE LA MORINIERE | HELENE | MARIE
LE LOUS | BRIAC | MICHAEL
LEBOUTHILLIER | JOSEPH | FORTUNAT
LEBRUN | PHILIPPE | JEAN
LEDEBOER | MARTIEN |
LEE | ALAN |
LEE | ALECIA | MAIJE
LEE | ANDREW |
LEE | ANDREW |
LEE | ANTHONY |
LEE | AURORA | SIMONE
LEE | CHING-LUN | MARIA
LEE | DANNO | EDWARD
LEE | MATTHEW | CHRISTOPHER
LEE | RICHARD |
LEE | SARAH | CHUNG
LEE | SEAN | YUKI
LEE | SOO | YEON
LEE | YUN |
LEGATES | MARLENE |
LEGERET | MARIANNE | SCARLETT
LEGRAIN | PHILIPPE | PATRICK HARALD
LEGRAND | JOHN | POL
LEGRAND | OLGA |
LEGRAND | PIERRE | ANTHONY
LEHMANN | JOHN | FREDERICK
LEHMANN-FINSTER | INGE | KARIN
LEIBBRAND | ROLF | GUENTER
LEISI | CHRISTIAN | JOERG
LEON | ANDREW | ALBERT
LEONG | JOHANN | YOONG TZI
LEPAGE | MELANIE | MARY JULIE
LERMAN | ALEXANDER |
LEROY | STEVEN | MARK
LESSARD | EMMA | KATHERINE
LETTS | ARTHUR | DAVID
LEUNG | FELIX |
LEUNG | STEVEN |
LEVINSON | ADAM | JASON
LEVY | SAMUEL | JAY
LEWINSON | EVE | JEANNETTE
LEWIS | DAVID | ARTHUR
LEWIS | KATHLEEN | HEATHER
LEWIS | MARIA | JOAN
LEWIS | SARAH | NAOMI
LEY | DAVID | EMIL
LEYMARIE | ISABELLE | CLAIRE
LI | ANDREW | TING YAN
LIANG | PHILIP | SHEN SHUE
LIAO | MICHAEL |
LICKERT | MELAINE |
LIEVERS | HEATHER | ANNE
LIGATE | ASHLING | JEAN
LIKELY | JERRY | PAUL
LIM | BO | GENG
LIM | EUNICE |
LIM | PATRICK | JUIN KIAT
LIMM | EZRA | ISKANDAR
LIN | ALAN | NEIH HWA
LIN | AMY | DAWN
LIN | JEFFREY | C.
LIN | LISA | ANNE
LINDSAY | KATHERINE | MARY
LINDSEY | MARJORIE | LOUISE
LISKER | LISA | JUDITH
LITTA-MODIGNANI | GIULO |
LITTLEMORE | LINDA | ANN
LIVNAT | MIRIAM |
LLOYD-WILSON | MATTHEW |
LOEBER | ANDREAS | MARC
LOEFFERT | ANDREA |
LONCRAINE | FELICE | LOUISE FALLON
LONG | CHARLES | KENNETH
LONG | MICHAEL | KEITH
LONGIARU | SAMUEL | JOSEPH
LONGPRE | GAIL | FRANCES
LORPHELIN | JENNIFER | ANNE TREADWELL
LOUISE | MARTHA |
LOUWMAN | EVERT | V. N.
LOW | COREY | JAMES
LOW | ZHENYANG | LEROY
LOWE | PATRICIA | JEAN
LOWEN | NICHOLAS | ANDREW
LU | JIAN | GUO
LU | JIN |
LU | RICHARD |
LUCACIU | LISA | LANIER
LUDEEN | NORMAN | HOWARD
LUDI | MICHAEL |
LUISI | PETER |
LUNA | DAVID | CHRISTIAN
LUNDE | KENNETH |
LUNDIN | JACK | O.A.
LUTTRELL | EUGENE | FRANCIS
LUTTRELL | MARIE | LOUISE
LYALL | JENNIFER | LUNDEE
LYCKA | JACQUELINE | MARIE CLAIRE
LYON | DIANE | LEE
MAC NAUGHTON | CLARA | ELIZABETH
MAC NAUGHTON | GREGG |
MACDONALD | ELISE | MARIE
MACEACHERN | SALLY | VIRGINIA
MACGREGOR | SARAH | ELIZABETH
MACKEAN | CORNELIA | GRANT
MACKENZIE | PAUL | CRAIG
MACKRAEL | LINDA | JEAN
MACKRAEL-LA BASTILLE | LIN | JEAN
MACMAHON | MONICA | MARIE
MACNAUGHTON | REBECCA | ANN
MADELEY | VICTORIA | CHRISTABEL MAYTAG
MAGRISO | EZRA |
MAGURA | PAUL | ANDREW
MAHIEU | LESLEY |
MAHLAB | KAREN |
MAHMOUD | ZIHAR |
MAHONEY | KEITH | MICHAEL
MAIROSE | NIKLAS | PATRICK
MAISIN | ARIANE | JOSEPHINE
MAKO | MARION | TERTIA
MALATEST | ANN | MARIE
MANCHIKANTI | SRIRAM |
MANESCHI | KAREN | ANDREW
MANGER | PHILLIP | KEVIN
MANGUM | SALLY | ELIZABETH
MANNOUN | NADER | KHALIL
MANSO | MONIQUE | JULIETTE
MANTILLA | CONSUELO |
MAO | KRISTINA |
MAQUET | BERNARD | JEROME
MARANGON | ROMANA | MADELAINE
MARASHI | JENNIFER | ANNE
MARCHAND | FRANCOIS | ALBERT
MARDIROS | MARILYN |
MARIAM | ALEXANDER | FASIKA
MARKS | JAMES | DOUGLAS SELWYN
MAROUF | AHMAD | A.
MARR | LINDA | KRISTINE
MARSHALL | ELVEY | BERNARD
MARSHALL | JAMES | LYALL
MARSHALL | LINDA | JOY
MARTENS | NANCY | ELAINE
MARTIJNSE | KEVIN | ALEC
MARTIN | HAL | W.M.
MARTIN | JILL | FRANCES
MARTIN | WILLIAM | FRANK
MARTINENGHI | LISA | ANNE
MARTINEZ-IRIBERRI | ASTRID | NATASCHA MAYER
MARVY | LEONARD | PAUL
MARX | DARRYL | FREDERICK
MASCIO | NANCY | LYNN
MASON | MONICA | MAGRIT BESSLER
MASON | ROBERTA | JOB
MATIASKO | JURAJ |
MATRAS | YARON |
MATTEONI | JAMES | ALAN
MAUER | TOBIAS | MANFRED
MAUER | WANDA | WILLWNW
MAXWELL | RUTH | LILLIAN
MAYTAG-MADELEY | ALEXANDRA | PATRICIA
MAZANDERANI | MOHAMMED | HUSSAIN HAERI
MAZIDI | SHIRIN |
MC CLELLAN-LA RUE | AMY |
MC KEAN | EDWIN | MORGAN
MC KINSTER | KAREN | ELIZABETH
MC LAIN | GEOFFREY | WADE
MC MILLAN | KATHLEEN | LAUREN
MCAULIFFE | JOHN | THOMAS
MCBEE | KATJA | PATRICIA
MCCAHON NUNN | JOSEPH |
MCCALL | SERENA | HEATHER
MCCALLUM | COURTNEY | JUDITH SUZANNE
MCCLURE | JENNIFER | NICOLE
MCCOOL | CAROLYN |
MCDONNELL | JEAN | MICHELLE
MCFEDRIES-LOEPPKY | AYN |
MCGAREY | RICHARD | CHARLES
MCGEE | PATRICK | HENRY
MCGRATH | KYLE |
MCINTOSH | PETER | ANDREW
MCKENZIE | HAMILTON | WADE
MCKINNEY | JOHN | STEPHEN
MCLAUGHLIN-WOOD | CLAUDIA | ANN
MCLEAN | KRISTINA | ELISABETH HALD
MCLEAN | PAULA | ANN
MCQUITTY | MARIE |
MCSWEENEY | KATHLEEN | ELIZABETH
MEACHAM | KATHERINE |
MEANEY | MARK | JOHN JOSEPH
MEDORI | CLAIRE | MARIE
MEE | MONICA |
MEESSEN | VINCENT | MICHAEL LUC
MEHTA | SAMIR |
MELIS | ERIN | LEE
MELIS | JOHN | ROBERT
MELLO | PEDRO | PINHEIRO
MELLOR | JOSHUA | JOHN
MELLOR-PHILLIPS | SARA | ANGELA
MENKES | MATTHEW | DALE
MENKES | SEAN | ALEXANDER
MENNUCCI | ANDREA | CARLO
MENON | SUNITA |
MERCIER | JOSEPH | ADELARD CONRAD
MERKLE | DOMINIQUE | ISABEL
MERONEK | ROURK | CHRISTOPHER
MERRY | JULIE | CARINA
MESSER | ANNE | LOUISE
METZGER | KARI | PAIGE
MEYER | GABRIELA | ELIZABETH
MEYER | JOEAN | VIOLET
MEYER | MAREN | SUSAN
MICHEL-JONES | FRANCOISE-LUCILE |
MIGLIORE | HENRY | HUNGKOOK
MILBURN | LYNN | RENEE
MILLAR | ELIZABETH | T.
MILLER | MICHAEL | ELLIOT
MILLER | PIERCE | RODMAN
MILLER | REBECCA | ANNE
MILLER | SUSAN | PAIGE
MILLER | THOMAS | RODMAN
MILLER-AICHHOLZ | JOHN | ANDREW
MILLER-MCCOLL | SHEENA |
MINALL | DALE | ANN
MINDT | THOMAS | LEIGHTON
MITCHELL | ANDREW | MELVILLE
MITCHELL | DAVID | PATRICK
MITCHELL | PENNY | SUE
MITCHELL | TAMMY | JACINDA
MIZRAHI | JJEAN | JACQUES
MOCARQUER | NICHOLAS | ADRIAN GROUT
MOCKFORD | ELIZABETH | NAN
MODY | JAMSHED | KALI
MOGFORD | CAROLINE | JANE
MOINET | MARY | LYNN
MOK | VIVIENNE | WING TING
MOLITOR | CLAUDIA | NICOLETTE
MOLS | VANESSA | J.
MONAGHAN | TIMOTHY | RAY
MONDAL | ANANNYA |
MONKS | MICHAEL | WARREN
MONTEIRO | DEBORAH | C. RIBAS
MONTEIRO | ROBERTO | RIBAS
MONTI | MARCO | GIOVANNI
MOORE | ZOE | LYNN
MOORES | SIERRA | KIMBERLEY
MORAN | NANCY | GAYE
MORELLE | ASTRID |
MORELLE | JEAN | LUC EDOUARD
MORF-STUDIGER | JOY | OPALINE
MORGAN | CATHERINE | MARIA
MORGAN | SAVANNAH | LAURA
MORGEN | FABIENNE | JANINE
MORISON-DEMESY | GENEVIEVE | CRISTOBEL
MORRIS | IRA | JOSEPH
MORRIS | STEPHEN | RICHARD
MOSS | SCOTT | JOHN
MOSSOP | PATRICIA | JOAN
MOTTAHEDAN | LILY |
MOUYNES | RICARDO | ALBERTO
MOW | SARAH | WEN YI
MOWAT | ANDREW | BENNETT
MOYER-ORTEGA | JANET | LYNNE
MUELLER | DENISE | MARGUERITE
MUGGLI | ROLAND | MAX
MULCHRONE | FERGAL | JAMES
MULDER | MARC | JOSEPH JEAN
MULLEN | DENNIS | RILEY
MULLEY | SARAH | ELIZABETH
MULLIGAN | ROBERT | JOHN
MUNN | THERESE | PRIYANTHI
MUNOZ | HAYDEE | MARIA
MURPHY | PETER | NICHOLSON
MURRAY | CAROLYN | KATHRYN
MURRAY | GEORGE | HENRY
MURRAY-FENTON | GUTHRIE | FREDERICK
MURTHUM | MICHELLE |
MYERS | GORDON | FREDERICK
MYRON | CAROL | ANN
MYSER | MAXINE | ROSE
MYSORE | RAMOLA | NAGENDRA
MYSORE | SUNIL | NAGENDRA
NACOS | JOHN | CHRISTOPHER
NAFISA | KHALID |
NAGEL | CHARLENE | LOUISE
NAHAS | LOUAI | K.
NANAVATI | JAI | ANIL
NARAYAN | DANIEL | NITIN
NARBAITZ | PETER | NICHOLAS ANDREW
NASS | PATRICIA |
NASSIF | PHILIPPE |
NATHAN | ROBERT | JAMES
NEHER | CHRISTINA | MARIA
NEILSON | KAREN | RAE
NEKIWALA | NEETA |
NELSON | MARGARET | INGRID
NEOH | CLARENCE | KAI YANG
NESSIER | MIHAAD | M.
NETTLETON | NICOLE | KENWRICK
NEUMAN | KEITH | ANDREW
NEWELL | ADRIAN | JAMES
NEWMAN | DAVID | GEORGE
NG | MATTHIAS | MAVERICK
NG | PATRICK | SHINKAU
NG | STEPHANIE |
NG-KRANZLE | NGON | SHEUNG
NICHOLLS | CAROL | ANN
NICHOLLS | MONA | LYNNETTE
NICHOLS | JEFFREY | LEE
NICHOLSON | DIANE | JOAN
NICHOLSON | JONATHON | CHRISTOPHER
NICKLAUS | ROLAND |
NIELSSEN | DORIS | ELLEN
NINABER VAN EIJBEN-DEAN | BARBARA | AMY
NISHIJIMA | KENGO |
NISSIM | LAURA |
NISSIM | YORAM |
NOAKES | MONA | MARY FORSTER
NOBLE | BRENDA | MARIE
NOBLE | SANDRA | LOUISE
NOCK | LUCY | LIU
NORDIN | JUDY | LENISE OKA
NORMAND | LISE | ANNE MARIE
NORPANLOB | TAPIDA | STEPHANIE
NORTH | FELICIA | PETRA
NORTHOLT | RALPH | GERHARD
NSOULI | LANA | ATEF
NUBLA III | RALPH | CHRISTOPHER
NUNES-COSTA | MARIA | RIBAS MONTEIRO
NYITRAY | KATHLEEN | ALANA
O'CONNOR | ROSEMARY |
O'DAY | DANIEL | OWEN
O'DONNELL | DIANA | LEE
OEHEN | LORIS | PHILIPP
OFFER | VIRGINIA | ROSE
OGAWA | ANN | CYNTHIA
OJEISEKHOBA | MOSES | IFISON
OLANDER | KENNETH | MAURITZ
OLDFIELD | AMICIA | KATHRYN
OLDFIELD | JILLIENNE | ECHO TAYLOR
OLDHAM | MICHAEL | clinton
OLIVER | TRACY | RAE
OLSSON | NANCY | CAROLYN
ONDERKA | CHRISTIAN | D.N.
ONDERKA | HELEN | MARIE
O'NEILL | MARGARET | MARY
ONG | CHENG | YEN DANNY
ONG | EE | WEN EVAN
ONYSKO | DENISE | VALERIE
ORAVA | BRIANNA | MICHELLE
ORIET III | LEO | PAUL
ORIGER | DIANE |
O'RIORDAN | MARY | CHRISTINA
ORMSTON | KRISTEN | LORRAINE
ORR | SALLY | ANNE
ORTEGA | BEVERLY | ANN
OSTERMEIER | MONIKA | RENATA
OSTIC | JENNIFER | CLAIRE
OSWALD | SUSANNE | CATHERINE
OTIS | GAIL | KATHLEEN
OTT | MARC | FREDERIC
OTTEN | JENNIFER | MARJOLEIN
OWEN | PAMELA | LILIAN
PACCHETTI | TOMMASO | ADOLFO BALDISSERA
PACHECO | ELIO |
PACHISIA | NEO |
PAETKAU | HENRY | PETER
PAI | AMITA | DINESH
PAI | DINESH | NARASIMHA
PAOLINI | KYLE | JOSEPH
PAPPS | MARINA |
PARADIS | DELLA | DERAMA
PARK | BENJAMIN | JAE-NAHM
PARK | STEPHANIE | THEODORA
PARKE | CAMILLE | CAPRIOGLIO
PARKS | JOHN |
PASSAGGIO | FRANCESCO |
PATEL | AISHWARYA | PRAYASVIN
PATEL | AKANKSHA | PRAYASVIN
PATEL | ANKIRA | SAMIR
PATEL | RAMANLAL | NARANJI
PATERSON | ANNABEL | CHRISTINA MARY
PAVLOTSKIY | YEFIM |
PAZIANA | IPHIGENEIA |
PEACHEY | ALTA | LOIS
PECK | JAMES | JULIAN
PEDERSEN | THOMAS | IRA DALSGAARD
PEDRAZZINI | DANIELA | JOANNA
PEEBLES | PATRICIA | HELEN
PEEBLES | RICHARD | HENRY
PEERY | JESS | HATCHER
PEKAR | DAVID | FESSENDEN
PELTIER | CATHERINE |
PEMBERTON | JOHN | SOMERSET
PENA | CECILIA |
PENNACCHIETTI | PATRICK | JOHN
PENNEY | LYNN | MARIE MADELEINE
PENSOY | SIBEL |
PEPIN | CELESTIN | HANS MARC-ANDRE
PEREIRE | GERALDINE |
PEREZ | MACARENA | OJEDA
PETCH | JEREMY | EARLE
PETCH | RAPHAEL | STEFANO
PETERMANN | SAPHORINE | AZADE
PETERSON | LINDA | MARY
PETERSSON | ISABELLE | SUZANNE
PETRETTA | GERALDINE |
PETRIGNANI | PAOLO | A.
PETTENUZZO | BARBARA | JOAN
PETZNY | CHRISTIAN | WILFRIED
PFEIFFER-BELLI | CORINNA | HILKE
PFENNINGER | CAROLYN | ELIZABETH
PHILLIPS | ALEXANDER | CHRISTOPHER
PHILLIPS | MARGARET | CARRIE
PHILLIPS | MARK | STEPHEN
PIDCOCK | DONALD | THOMAS
PIDLISNY | ALLA |
PIGEON | NICOLE | LISE
PIPER | KARLENE | KAY
PIRONET | CHRISTIANNE | ANDREE NICOLE
PITT | KATHERINE | BARTLETT
PLETT | NORMAN | ERNEST
POIRIER | TINA | MARIE
POLEMIS | DEMETRIOS | STAMATIOS
POLL | JAMES | HENRY
PON | ERNESTO |
PONNAPULA | PARTHASARATHY | SANJEEVA
POOLE | ROBERT | BRUCE
POON | JOHNNY | CHI CHEUK
POPE | NEIL | FRASER
PORTER | PAMELA | PAIGE
PORTIS | MARY | FRANCES
POSEN | LESTER | BENETT
POTTER | SARAH | CAROLINE
POZARIK | DANIEL | A.
PREECE | CARLA | MARCIA
PREPARATA | GUIDO | GIACOMO
PRESCOTT | WILLIAM | STANDISH
PRESTON | SHARON | ROBERTA
PRIETO | VIRGINIA | CRUSE
PROKOPETZ | VALERIE | DAWN
PROUDFOOT | PATRICIA | JEAN
PROVAN-KLOTZ | ELIZABETH | LOUISE
PROVENS | SCOTT | ALLEN
PRUS | DANIEL | LEE
PRUSINSKI | DAVID | BRADLEY
PRYNN | GABERIELA | ROSA
PSYCHOYOS | ALEXANDER | PETER
PUA | CHRISTOPHER | NGUYEN HOANG-JAAN
PULLICINO | PATRICK | MICHAEL
PURRUCKER | LYS | MICHELLE
QUENNEVILLE | MELANIE | LYNN
QUILTY | JANNE | ALEKSIS
QUINTERO | ARIADNA | MARIA
RABOLINI | MARCO | ALEXANDER
RAHIF | MARY | ELLEN
RAIKEN | JONATHAN | PETER
RAJ | GAYATRI | DEVI
RAJANTIE | JANE | VICTORIA NELSON
RALPH | SCOTT | DAVID
RALSKE | JAN | STEPHEN
RAMOS | JERICA | L.Y.
RAMOS | JERINA | L.Y.
RAMSEY | RALPH | MATTHEW
RANSOM | JACK | STEVEN
RAOUL-DUVAL | FRANCOIS | DONALD
RAPPAPORT | MIRIAM |
RASMUSSEN-WALDINGER | ANITA | LUISE
RATTRAY | IAN | SCOTT
RAU | SUSAN | ANN
RAUFOVA | LYUDMILA |
RAUM | JESSICA | HELEN
RAYMOND, JR | GEORGE | BLATCHLEY
REBILAS | THOMAS | JOHN
REED | MARSHA | FRANCES
REEVE | JOYCE | BETH
REGIMBAL | SARA | MARIE
REHBEIN | BEVERLY | ANN
REINER | JOSEPH | GEZA
REISSENBERGER | HORST | GUENTHER
REMSHARDT | NICOLA | ANNE
REY | ADELA |
REYNOIRD | BEATRICE | CECILE
RHEE | KAREN |
RHODES | DON | EDWARD
RICE | ARTHUR | RAY
RICHARDS | JENNIFER | MARIE
RICHARDSON | ALEXANDRA | RATCLIFF WASIQULLAH
RICHARDSON | PAMELA | JEAN
RICHMOND | JOE | PIERCE
RICHMOND | NINA | SHAWN
RIDDELL | RILEY | R. C.
RIDLEY | IRIS | LIVIA
RIEDEL | FARNAZ |
RIEDLINGER | NICHOLAS | GORDON
RIEDLINGER | PAUL | GORDON
RIEDLINGER | SARAH | ELIZABETH
RIEDLINGER | SUSAN | ELIZABETH
RIHANY | WENDY | SUSANN
RIISE | KRISTIN |
RILLING | JUDITH | LOIS
RINNER | MARIE-SOPHIE | ALICE
RIOLO | JOHN | JOSEPH
RIPAMONTI | REGINA | MARY
RITCHIE | BLAIR | DOUGLAS
RITTER | CAROL | MICHELLE
RIXEN | ELISABETH |
ROBBERTS-GIPON | ALICE | EDITH
ROBBIANI | GWYNNETH | VIOLETTE KATE
ROBERTS | JACOB | M.
ROBERTS | JAMES | WILLIAM
ROBERTS | NANCY | LAURIE
ROBERTSON | FRASER |
ROBERTSON | MARGARET | THERESA
ROBINSON | CHARLES | KINSMAN
ROBINSON | TODD | ANTHONY
ROBSON | NAOMI |
ROCHU | TIMOTHY | FABRICE
ROCKWELL | ANGELA | BLYTHE CESCATI
RODIL | VILMA | MARALIT
RODRIGUEZ | MIGUEL |
ROGERS | RANDALL | WAYNE
ROISING | JAHN | OSCAR
ROLANDE-VERCRUYSSE | SABINE | ANNE
ROLFE | SAMUEL | ALLEN
ROMANOS | MICHAEL | ANTHONY
ROMER | ANDREA | PAOL;A
ROQUETTE | FLORIAN | GAUTHIER
ROQUETTE | GREGOIRE | FREDERIC
ROSENBERG | ESTHER | MICHAL
ROSS | GLYNIS | APRIL MORGAN
ROSS | JENNIFER | ANN
ROSSITER | WINTON | GOODRICH
ROSS-RUSSELL | VANESSA | ROSEMARY
ROTERMANN | SARAH | LOUISE
ROTH | ELISABETH | ERNA
ROTH-ARDINAST | FRANIA |
ROTHENHAUSSLER | MARK | EDWARD
ROUSSELLE | ARNAUD | CHARLES
ROWE | ABRAHAM | ANTHONY
ROWLANDS | BEVERLY | JANE
ROYO | MIGUEL | ANGEL
RUBEL | JEFFREY | ANDRE
RUCH | PAUL |
RUCQUOI-BERGER | JOHN | TIMOTHY
RUETER | ANN-CAROLIN |
RUF | CHRISTINA | ELISABETH
RUFF | CONOR | FRANCIS
RUGGE-PRICE | ROBERT | JAKE
RUIA | AMAY | SHYAM
RUSSELL | JONATHON | GRANT
RUSSELL | LORI | ANN
RUSSELL | SUSAN | KATHLEEN
RUSSO | SERENA | VALERIA
RUTTER | BETHANY | ELINOR
RYAN | MARIA | REGINA
SAAD | SANDRA | JANINE
SABIKHI | ASHA |
SABIKHI | ASHA |
SABIKHI | RANJIT |
SABINA | SHARON | JULIET
SADIK | AL-SHARIF | HASHIM WAEL
SADOVSKI | BRITANI |
SAENEN | PHILIPPE | AUGUSTE
SAFI | JORGE | EDUARDO
SAFI | RICARDO |
SAFI | ROBERTO | MICHEL
SAHABI | ABDALLAH |
SAID AL-KHALIDI | HISHAM | MOHAMMED
SAIKIN | HYATT |
SAKAI | ARISA |
SALERNO | IVAN | ANDRES
SALINAS | NINFA | CLARA
SALISBURY | MEREDITH | ANNE
SALLIS | CHRISTINE | LINDA
SALLOUM | KATHY | LYNN
SALTER | BRIAN | EDWARD
SAMUEL | STEPHANIE | EDA
SANDBLOM | GABRIEL | KARL
SANDERS | KATHARINE | LOUISA
SANTAMATO | ANDREA | PAOLO
SASAKI | BUNPEI | SEAN
SASAKI | HIROYUKI |
SASSO | ANGELA | JEAN
SATOK | DEBORAH | JOY
SATTERHWAITE-WILSON | MARK |
SAUD ALDABAAN | NAJLA |
SAUD DABAAN | AREEGE |
SAUDE | ERIK | JARL
SAUNDERS | SARAH | JENNIFER
SAUREL | PAUL | LOUIS
SAVAN | BETH | IRENE
SAVELAND | CHRISTINE | ANGELA
SAYLER | LINDSAY | LEANNE
SCARLETT | NICOLE | RANI
SCHAEFFER | LAWRENCE | RAYMOND
SCHAER | ERIC | ALFRED
SCHAFFNER | MONICA | ELIZABETH
SCHEIDEGGER-HOTZ | CORINA | ISABELLE
SCHERER | JOSEF | BRIAN
SCHERER | SYLVIA | NELLY
SCHEUBER-BRENTA | ALESSANDRA | NELLA
SCHILIZZI | DANIEL | STEPHEN
SCHLENKER | SUSANNE |
SCHMALE | KENDRA | LYNN
SCHMED | BEATRICE | BRIGITTE FRIEDA
SCHMID | EDWARD | RAFAEL
SCHMID | MICHAEL | JOHN
SCHMIDT | BARBARA | ELKE
SCHMIDT | CHRISTIE | LOUISE
SCHMITT | SABINE |
SCHNEIDER | MICHAEL | HANS
SCHNETZLER | CATHERINE | BARBARA REGINE
SCHOECK | RAYMOND | STEPHAN JOHANNES
SCHOENE (NEE GRAPKO) | STEFANIE |
SCHOFIELD | ELIZABETH | VIRGINIA
SCHRIBER | NADEE | HELENE
SCHROFFENEGGER | IRIS | ANJA
SCHUBERT | CARSTEN | JOHNNY
SCHUBERT | SHANNON | HOPE
SCHUBERT | SUZANNE |
SCHUETT | JENNIFER | REBECCA
SCHULTZ | KATHRYN | LEE
SCHWARTZ | ARYEH | S.
SCHWARTZ | JEAN | MIRIAM
SCHWARTZ | JEFFREY | ALLEN
SCHWARTZ | JOEL | BENJAMIN
SCHWARTZ | PATRICIA | L.
SCHWARZ | FABIEN |
SCHWIEGER | BRIAN | JAMES
SCOLAMIERO | MANUEL |
SCOTT | JAMES | CURTIS
SCOTT | JOANNA | MARY
SCOTT-EASTAUGH | DOREEN |
SCOTTI | CAROLYN | FRANCES
SEADERS | IAN | JOHN
SEAH | ASHLEY |
SEAIDAN | NORA | OMAR
SEDE | DANIEL | NASRI
SEIDL | PAULO | GUILHERME MARQUES PINTO
SEILER | ALEXANDER | MARTIN
SEILER | RYAN | PETER
SEILER-BRYAN | JOANNE | SPENCER
SELAIMAN | FAISAL | ABDULRAHMAN
SELF | MARIE | SIOBHAN
SENDRA | ZULEMA |
SEQUEIRA | FARLEY | MARTIN
SERRA | ADRIANA | AURELIA
SEW | ZHEN | TAO
SEXTON | JAMES | CAROLL
SHAFFER | PATRICIA | ALLRED
SHAH | PAULA | RENEE
SHALOM | MICHAEL | FELIX
SHAMASH | GUILDA |
SHAO | BO | QUAN
SHAPLAND | CAROLINE | ELIZABETH
SHARP | STEPHEN | DEAN
SHAW | JAMES | BENJAMIN
SHAW | ROBERT | YIH-JEN
SHAW | ROBERT | THOMAS
SHEARER | CARL | THOMAS
SHENK | JASON | GERALD
SHENNIB | SARAH |
SHERIDAN | STEPHEN | DONALD
SHERMAN | SCOTT | MICHAEL
SHERWIN | JAMES | TERRY
SHERWOOD | ANNE |
SHEWCHUK (NEE: DAWKINS) | CHRISTIAN | J.F.
SHIELDS | JOHN | TERENCE
SHIMOJI-LENTZ | EIKICHI |
SHIN | ELIZABETH |
SHOLLEY | KATHRYN | ELIZABETH
SHORTEN | JENNIFER |
SHUFF | KATHLEEN | THOMPSON
SIDER | VANCE | ASHLEY
SIEGEL | PETER | ASHER
SIEGERT | GEORG | RUDOLF
SIGRIST | EILIDH | FAY
SILVA-PIE | JAMES | MICHAEL
SILVERSTEIN | DANIEL | SOLOMON
SILVERSTEIN | STEVEN | ALLEN
SILVER-WYATT | DIANA |
SIMMONS | HILAH | G.L.
SIMON | MICHAEL | STEFAN
SIMONS | ANDREW | CARL
SINCLAIR | KATHLEEN | MICHELE
SINGH | AYESHA |
SINGHATEH-EVANS | SUSAN |
SKANDERA | PAUL | HERMANN
SKARDA | AMANDA | KIMBERLY
SKILTON | VIRGINIA | MARTHA LEA
SKIMSON | THOMAS | CHUTE
SKINNER | PIERS | TIMOTHY
SKIPP | KRISTEN | MARIE
SKIRA | DEAN |
SLABOSZEWICZ | CHENE | EDOUARD
SLACHMUYLDERS | JAN | FRANS
SLATER | NATHANIEL | EVELYN SAMUEL
SLEVIN | CYNTHIA | DEE
SLIVINSKI | RENATA | ALISON
SMALL | MALCOLM | DAVID
SMITH | BLAKE | EDWARD
SMITH | EVAN | FRANCIS
SMITH | GILES | ANDREW
SMITH | HELEN | ABBEY
SMITH | JULIA | ANN
SMITH | KATHY | FRANCES
SMITH | LINETTE | SUE
SMITH | MARGARET | ANN
SMITH | ROGER | LEE
SMITHEMAN | JOHN | PHILIP
SMITH-VAUGHAN | ARTHUR | HENRY
SMYTH | RACHEL | ASHLEY
SNEDDON | MONTGOMERY | CAMPBELL
SNOZZI | FABIO | ANDREA
SOEDARSONO | CITRA | MUNANDA
SOETIKNO | GRACIANTI |
SOL | CREDENCE | ELIZABETH
SOLBERG | YASMIN | SAMIRA
SOLTERMANN-BOSSERT | SUSAN | LEILA
SONG | EDWARD |
SOSA | MARJORIE | LINDO
SOSAYA | PHILIP-LEE |
SOTO | FERNAN | EDUARDO
SOUCH | CATHERINE | J.
SOUTHER | ANNE | ELIZABETH
SPALTMANN | DEBORAH | ANNI
SPARKES | REBECCA | LYNN
SPEEVAK | MARSHA | DEL
SPENCE | DANIEL | JEREMY
SPENDA | GOERGE | JOSEPH
SPERBER | INGRID | LINNEA
SPERI | NICOLA | GASPARE
SPRENG | LAURA | ELENA
SPRINGATE | CHARLOTTE | ANN
SPYCHER | CHEYENNE | SARAH
SRIDJAJA | RATNA |
SRISOMRUN | SAKDA | SAMSON
STADLER | ELISA | CECILIA
STAEHELIN | BRIGIT | LILA
STAINES | THOMAS | EDWARD
STALLA-BOURDILLON | ARTHUR | CHARLES MAXENCE
STALLA-BOURDILLON | JULIEN | LAURENT NICOLAS
STANFIELD | GRANT | CAMERON
STANITSAS | ANTHONY | ANASTASIOS
ST-CYR | STEFANIE | GABRIELLE
STEBBING | KEANE | GABRIEL
STEEL | HENRIETTA | VICTORIA MARIE
STEFANELLI | JOHN | CARL
STEGNER | STEFANIA | GERALDINE HELENA
STEHLING | ULRIK | IAN
STEIMER | MARC | ALAN
STEIN | BETTY | LOU
STEPHENS | WILLIAM | HENRY
STEVENSON | FRANK | BEAUMONT
STEWART | AINSLEY | HUTCHISON
STEWART | ANDREW | WILLIAM
STEWART | JAN | JACOBI
STIEFEL | VICKI | CLAUDIA
STILL | ANDREW | JOSEPH
STIMMER | GEORGE | ANTHONY
STOBBE | JOEL | NATHAN
STOCKBRIDGE | CYNTHIA | G.
STOCKHEIM | CARLA | ISABEL
STOKES | AARON | JAMES
STOKLOSA | RICHARD | THADDEUS
STOLZ | MONICA | BEATRICE
STOPFORD | NICHOLAS | JOHN
STORCK | PETER |
STOUT | ANDREW | GORDON
STRAN | MARIT | MARIE
STRAND | ELIZABETH | ANNE
STRAW | STANLEY | BURT
STREPPARAVE | GINA | RITA
STRINGHAM | CAMERON | LYLE
STUART | ALISTAIR | ROBERT
STUCKERT | GRETEL | BARBARA
STUNITZ | RENEE | HEILBRONNER
SUCHE | MONICA | RUTH
SUCKLING | DAVID | MAXWELL
SUEMUNE | TOSHIYUKI |
SUH | RICHARD | SEUNGWAN
SULEMAN | GHUSSEN | AHMED
SUMMERSKILL | WILLIAM | STORITH MARKHAM
SURAN | FRANCES | AMY
SURF | ZUHRAH | SAIED
SVENDSEN | LINDA | JANE
SWEET | CATHERINE | MARIE
SWINKELS | EVELYN | MARIELLE
SZEPFALUSY | DANIEL | ADAM
SZUSZKIEWICZ | HARALD | MICHAEL
TABBARA | DR. A. | MIKE
TALLEY | CHRISTINE |
TALLEY | EILEEN | KATE
TALLEY | MARK | WYNDHAM
TAN | KRISTY | MEI-YI
TANG | AMY | HUI I
TANG | BRENDAN | YI-JZIN
TANG | CHAO | TUNG
TANG | DAVID | MIN-HAO
TANG | HSUEH-MEI | LEE
TANG | JIMMY | MIN-HUA
TANG | JOHN | CHIHWEI
TANG | ROY | CHIH-YU
TARUNTAEV | JUAN | FELIPE URIBE
TARUNTAEV | MARIA | LUISA URIBE
TASHKANDI | IBRAHIM | M.
TAY | ABIGAIL | WAN PING
TAYLOR | HEATHER | MICHELLE
TAYLOR | LINDA | ANNE
TAYLOR | PATRICIA | DUPUIS
TAYLOR | VERNAL |
TAYMANS | ROBERT | MARIE
TEASDALE | CATHERINE | MARGARET
TEO | RACHEL |
TEP | CAROLE |
TESCHMACHER | SOPHIE | ELIZABETH
TETZNER | BRIDGETTE | BRUGMANN
THANOS | KAREN |
THEUS | FRANSISCUS | JOHANNUS
THIEBAUD | ANTOINE | FRANCOIS
THOMAS | DAVID | FRANK
THOMAS | DEBORAH | ANN
THOMAS | MAX | OWEN
THOMAS | MICHAEL | JOHN
THOMAS | PAUL | JOSEPH
THOMAS | REBECCA | HELEN
THOMPSON | JAMES | TARRANT
THOMPSON | JERRY | WAYNE
THOMPSON | LISA | MARIE
THOMPSON | MARK | RICHARD
THOMPSON | NANCY | ANN
THOMPSON | RUTH | ELIZABETH
THURARE | ARTHUR | BORGO-GELLI
THURTELL | RICHARD | SCOTT
THURTELL | STEPHEN | WILLIAM
THYES | GRETCHEN | ANN
TIA | SAMANTHA | TESSA
TIALA | KANDACE | NAOMI
TIERNEY | ROBERT |
TIGCHELAAR | TIMOTHY | CLARK
TILLEY | JONATHAN | ROBERT
TING | BRIAN |
TINKLER | LISBETH | ANN
TITULAER | KAREN | ANN
TJADEN | NICLAS | WILLEM
TJAHJADI | MAXWELL | RYDER
TOH | WESLEY | CHUEN SEE
TOLLMAN | BEATRICE | NINA
TOLNAY | DOROTHY | JUDITH
TOMACELLI-FILOMARINO | LETIZIA |
TOMAN | CYNTHIA | LOU
TONG YU | LARRY | CHUNG
TONN | WILLIAM | MARTIN
TOSCANO | MICHAEL | MATTHEW
TOWERT | JENNIFER | MICHELLE
TOWNSLEY | DONNA | MARIE
TRAINOR-SMITH | JAYNE |
TRAUBE | ABRAHAM |
TRAVERS-WAKEFORD | FRANCES | MARGARET
TREDGET | ERIC | BRITT
TRELAWNY-ROSS | CAROL | JEAN
TREMBLAY | KAREN | TERESA
TREVES | DANIEL | GIUAEPPE
TREVES | MICHAEL | DAVID
TREVES | SERGIO | JOSEPH
TRIGAS | VASILIKI | ATHANASIOU
TROMPERT | JOHANNES | ADRIANUS
TROTMAN | PAUL | JOHN
TSAI | COLIN |
TSAI | JEAN | Y.L.
TURK | SUSAN | LYNN
TYSDAL | VICTORIA | ANN
TYSON | BARBARA | ANN
UCAK | SINAN | EKIN
UHLMANN | ANNE | HELENE
ULLRICH | RAYMOND | ANDRE
UNGER | MICHELE | JANETT
UNGER-MEURS | THERESE |
UPDIKE | THOMAS | FREDERICK
UPTON-HANSEN | PETER |
URBANEC | TOMAS |
URIARTE | IGNACIO |
URSPRUNG | JUSTYNA | MARIA
URWIN | ELIZABETH | MARIE
UTHAINONSIRISRI | DUANGSAMORN |
VALENCIA | DANIEL | ALFONSO
VALLERY-RADOT | MICHAEL | V.
VAN ASTEN | SORAYA |
VAN DEDEM | PHILIP | W.F.
VAN DEELEN | MARJOLJN | JAY
VAN DELDEN | LUDMILLA | MARGAUX CATHERINE
VAN DEN BERG | CASSANDRA | MAXINE
VAN DER HORST | ROBRECHT | P.J.
VAN DIJL | WOUTER | DIRK
VAN HAMME | LILIANE | NELLY
VAN KRUGEL-CHERNEY | EVA | CAMILLE
VAN LAEREN | FRANK |
VAN LATHEM-DAVID | NOCOLE | MARIE
VAN OSTRAND | FRANC | DEWITT CLINTON
VAN REEVEN | GREGORY | HENRY
VAN ROY | AUDREY | M.F.G.
VAN STRAATEN | LAURA | JAYNE
VAN VEELEN | LINDA | GAIL
VAN VEEN | RUTGERA | EUGENIE VAN KRETSCHMAR
VAN WINTERS | KEES | CORNELIS
VAN WITZENBURG | AUDREY | MARY
VAN ZANTEN | CAROLINE | ROBERTA V.
VAN ZEVERN | ANNE | CATHERINE MARIA MADELEINE
VANDER WOUDE | SUSAN | KAY
VANDERHOFSTADT | SERGE | GEORGES
VANDEVELDE | CHRISTINE | SIMONNE
VANTYGHEM-FIVEZ | MARY | LUCY
VARGAS | JENNIFER | REBECCA
VAWTER | THOMAS | ERNEST
VERGI | MARCUS |
VERKUIJLEN | BIRGIT | SIMONE
VIDAL | EDMUNDO |
VIGILEOS | SOPHIA |
VIMONT-VICARY | ALEXANDRE | PIERRE
VIMONT-VICARY | NICOLAS |
VINEGAR | DAVID | ALLEN
VINICK | DEVORA | LEE
VINYARD | CAROL | GAY
VISCONTI | PRISCILLA | CONSOLATA
VISSER-FREIBOTH | PAMELA | PATRICIA
VITHLANI | RANJU |
VITHLANI | RAVINDRA | AMISH-JOSH
VOGEL | ANDREAS | KIM
VOGEL | SAMUEL | ANDREAS
VOLKEN | SIBYLLE | MORGANA
VOLLMER | ANNE | MIEKE
VON FABER-CASTELL | VICTORIA | MARIA
VON HOHENZOLLERN | ALEXANDER | FRIEDRICH ANTONIUS JOHANNES
VON KROCKOW | ALEXANDRA | SOPHIE ISABELLE
VON MALAPERT-NEUFVILLE | DOROTHE | ALICE
VON PLAUEN | ISABELLE | ERICA YVETTE
VON VISY | STEPHAN | PAUL
VOSMAN | RINA | VALENTIN
VREE | PIETER | ERIK
WACASEY | JERVIS | WINN
WACASEY | MARY | ANN
WADDELL | NADINE | ANN
WAGEMAN | NANCY | ANN
WAGNER | DENISE | LYNETTE
WAITHE | WILLIAM | IRWIN
WALDER | ELIZABETH | NICOLA
WALKER | JAMIE | MANET
WALKER | ROBERTA | JANE
WALKER | STEPHEN | WILSON
WALL | JUDITH | ANNE
WALLACE | NATHAN | SCOTT
WALLISER | JOAN | MARGARET
WALTHER | NICOLAS | PAUL
WAND | RACHEL | LEE
WANG | ANDREW |
WARBURG-VON BUCHWALDT | ERICA | EVA
WARDROPE | DREW |
WARKENTIN | JEAN | MARIE
WARNER | SIMON | JAMES
WARNER, JR | HENRY | TUCKWELL
WARREN | LANSING | CHAPIN
WASER | MAX | PAUL
WASYLIK | CHARLOTTE | LOUISE
WATCHERS | HELEEN | LAURA
WATSON | ELIZABETH | ANTONIA
WATSON | VAUGHAN | ANTHONY
WATT | SUZANNE | DENISE
WATTS | LEE | COPELAND
WEARE III | JOHN | STEPHEN
WEBB | CYNTHIA | INGRID
WEBB-PEPLOE | ALEXANDER | MURRAY
WEBERS | PADDY | MATHEA ANTONIA
WEIBEL | ROBERT | JEAN-MARC
WEILER-THIESSEN | LORI | LANE LANDES
WEIR | JANET | ANN
WEIR | STEPHANIE | ALICE
WELCH | MARY | CATHRYNE
WELCH | WILLIAM | VINCENT
WELSH | JOE |
WENER | MILDRED | EMMONS
WERNTZ | LEWIS | CRAIG
WERTHMUELLER | LILIAN | DOROTHY
WEST | DAVID | ROSS
WEST | LON | JEANNE
WEST | MARY | KATHERINE ALDRICH
WESTFALL | JAMES | RALPH
WETHERELL | SHAYN | AMBER
WEVRICK | RACHEL |
WHEATLEY | SUSAN | MARGARET ROJAS
WHISTON | LAUREN | NURLISA
WHITCHER | DOUGLAS | EAMES
WHITCRAFT-MILLS | JEANNETTE |
WHITE | AMIE | MARIE
WHITE | JOAN | R.
WHITE | PAMELA | MARY
WHITE | PETER | LOUIS
WHITMORE | LEIGH | KELLY
WHITTINGTON | LESLIE | BANNING
WIEGAND | PHILIP | LEE
WIELAND | ROBERTO | OLIVER
WIELAND-HAEMMERLE | KAREN |
WIERENGA | MIKA | ROSE
WIESER | NADINE | ENGEL
WIESER | SIBYLLE | ELISABETH
WILDHABER | GREGORY | SCOTT
WILDING | CAROLINE | HARRIET
WILKINSON | MARGARET | LOIS
WILLIAMS | DEBORAH | KAYE
WILLIAMS | EDWARD | CAMPBELL
WILLIAMSON | ELISABETH | KJERSTI
WILSON | AYLA | HALLEY
WILSON | DAVID | WALLACE
WILSON | GINA | ELAINE
WILSON | HAROLD HORATIO | KITCHENER
WILSON | JESSIE | LORRAINE
WILSON | NICOLE | ALEXANDRA
WILSON | SUSAN | PATRICIA
WILSON | WILLIAM | EDWARD JOSEPH
WINDSOR-KLEMME | CAMILLA | MARY
WINDT | PHILIP | WILLIAM
WINTER | ALEXANDRE | MAX
WISE | DAVID | IAN
WISE | ELIZABETH | ANNE
WISNER-FUCHS | ALEXANDER | ANDREAS
WISNIEWSKI | HUGUES |
WITTE | ROBERT |
WITTE-COLANGELO | LORRAINE |
WOCHNER | JESSICA | VIRGINIA
WOJTYLA | LAUREN | ELIZABETH
WOLFE | DAVID | ALLEN
WOLFF | ALY | DIANA
WOLFF | DIANE | BEATRICE
WONG | AUDREY | BIK YING
WONG | SHIRLEY | WEI ANN
WONG, JR | STANLEY | H.
WOOD | ALICE | LOUISE
WOOD | DALE | WAYNE
WOOD | JANET | BURKE
WOODHOUSE | ADAM | SEBASTIAN
WOODWARD | MARTHA | VIRGINIA
WOODWARD | MUCHAEL | ROBERT
WOODWARD | RONALD | FRANK
WOOLLEY | ROBERT | EWART
WOUTERS | KATHLEEN | MARIA
WRENNALL | KATHLEEN | ANN HENNING
WRIGHT | GARY |
WRIGHT | STUART | JAMES
WRIGLRY | BRIAN | ALEXANDER
WU | ANDREW |
WU | ANN | YI
WU | JANE | CHANG
WU | KAM | KWAI
WU | KOON | KAU
WU | TEDDY | CHIEH CHENG
WUNDERLICH | MARC | INGVARD
WYANT | VAUGHAN | ALFRED
WYATT | EVE | MORTON
WYATT | VICTORI |
WYBER | RICHARD |
WYNNE-MORGAN | JAMIE |
XU | MICHAEL | SI-YAO JOHN
YAACOB | HANA | LUISA
YAMANE | KEISUKE |
YAN | YUXIAO |
YANG | CHEN | C.
YANG | JINNY |
YAPLE | CAROL | CONOVER
YASAY, JR | PERFECTO | RIVAS
YEE | FAY | LILLIAN
YEH | TIFFANY |
YEMIN | EDWARD |
YEMINI | ZIVA | MYRA
YEOH | JEAN | WERN
YIP | CLAUDIUS | KEIYIN
YOON | PETER | JUNSEOK
YOUNG | BARBARA | JEAN
YOUNG | CHRISTOPHER | ALAN
YOUNG | DAVID | MAXWELL
YOUNG | DIANA | CLAIRE
YOUNG | TERENCE | PAUL
YOW | HAZEL |
YPSILANTIS | NACY | MEROPI
ZACHRISSON | SVEN | ERIK
ZACK | DYLAN | AGOSTIN
ZAHID | SALMAN | MOHAMED
ZAHNOW | JOHN | ROBERT
ZAHNOW | LAURIE | ANN
ZAININGER | PAULA | SOPHIE
ZAKI | AHMAD | F.
ZAKLAD | GIL |
ZAKLAD-COHEN | RINAT | SHARON
ZALA | TAPAN | PRAFUL
ZALEV | ARTHUR | HAROLD
ZAMIL | REAM | HAMED
ZARAK | ENRIQUE |
ZECEVIC | PAUL | WALTER
ZHANG | XIAOAI |
ZICA DE CASTRO | ROBERTO | MACHADO
ZIEN | JOCHEN |
ZIMMERMANN | ANDRE | F.
ZIMMERMANN | ANNE-MARIE |
ZIMMERMANN | MERCEDES | MARIA
ZINDEL | KEVIN | MARCO
ZOBEL DE AYALA | JAIME | ALFONSO ANTONIO
ZOCK | ANDREAS | GORDON
ZUCKER | PNEENA | ETHAN
ZUCKERMAN | ARIE | TZVI
ZUPPINGER | JAN | RETO
ZURCHER | KATHERINE | ELIZABETH
ZWEIFEL | HANNES | HENRY
ZWEIFEL | THOMAS | DAVID
ZWIRNER | ANNA | LEE

Dated: January 26, 2017.
Maureen Manieri,
Manager Classification Team 82413, Examinations Operations—Philadelphia Compliance Services.

[FR Doc. 2017-02699 Filed 2-8-17; 8:45 am]

BILLING CODE 4830-01-P